DEPARTMENT OF TRANSPORTATION

Federal Railroad Administration

Notice of Funding Opportunity for the FY 2023-FY 2024 Consolidated Rail Infrastructure and Safety Improvements Program

AGENCY: Federal Railroad Administration (FRA), Department of Transportation (DOT).

ACTION: Notice of funding opportunity (NOFO or notice).

SUMMARY: This notice details the application requirements and procedures to obtain grant funding for eligible projects under the Consolidated Rail Infrastructure and Safety Improvements Program for Fiscal Years 2023 and 2024. This notice solicits applications for program funds made available by the Consolidated Appropriations Act, 2023, Consolidated Appropriations Act, 2024, and the Infrastructure Investment and Jobs Act. This notice also solicits applications for projects under the Magnetic Levitation Technology Deployment Program, funded by the Consolidated Appropriations Act, 2021. The opportunity described in this notice is made available under Assistance Listings Number 20.325, “Consolidated Rail Infrastructure and Safety Improvements,” and Assistance Listings Number 20.318, “Maglev Project Selection—SAFETEA-LU.”

DATES: Applications for funding under this solicitation are due no later than 11:59 p.m. EST, May 28, 2024. Applications that are incomplete or received after 11:59 p.m. EST, on May 28, 2024 will not be considered for funding. See section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Ms. Deborah Kobrin, Office of Rail Program Development, Federal Railroad Administration, 1200 New Jersey Avenue SE, Room W38-212, Washington, DC 20590. However, due to delays caused by enhanced screening of mail delivered via the U.S. Postal Service, applicants are advised to use other means of conveyance (such as courier service) to ensure timely receipt of materials before the application deadline.

FOR FURTHER INFORMATION CONTACT: For further information concerning this notice, please contact the FRA NOFO Support program staff via email at FRA-NOFO-Support@dot.gov. If additional assistance is needed, you may contact Ms. Deborah Kobrin, Supervisory Transportation Specialist, at email: Deborah.kobrin@dot.gov or telephone: 202-420-1281; Ms. Jenny Zeng, Transportation Industry Analyst, at email: Jenny.Zeng@dot.gov or telephone: 857-330-2481; in FRA's Office of Rail Program Development.

SUPPLEMENTARY INFORMATION:

Notice to applicants: FRA recommends that applicants read this notice in its entirety prior to preparing application materials. Definitions of key terms used throughout the NOFO are provided in section A(2) below. These key terms are capitalized throughout the NOFO. There are several administrative and specific eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

Summary Overview of Key Information—Consolidated Rail Infrastructure and Safety Improvements Program (CRISI)
Issuing Agency | Federal Railroad Administration, U.S. Department of Transportation
Program Overview | The purpose of the CRISI Program is to invest in a wide range of projects within the United States to improve railroad safety, efficiency, and reliability; mitigate congestion at both intercity passenger rail and freight rail chokepoints to support more efficient travel and goods movement; enhance multi-modal connections; and lead to new or substantially improved Intercity Passenger Rail Transportation corridors.
Eligible Applicants | • A State (including the District of Columbia).
| • A group of States.
| • An Interstate Compact.
| • A public agency or publicly chartered authority established by 1 or more states.
| • A political subdivision of a State.
| • Amtrak or another rail carrier that provides intercity rail passenger transportation (as rail carrier and intercity rail passenger transportation are defined in 49 U.S.C. 24102).
| • A Class II railroad or Class III Railroad, including any holding company of a Class II or Class III railroad (as those terms are defined in 49 U.S.C. 20102).
| • An association representing one or more railroads described in paragraph (g).
| • A federally recognized Indian Tribe.
| • Any rail carrier or rail equipment manufacturer in partnership with at least one of the entities described in paragraphs (a) through (e).
| • The Transportation Research Board and any entity with which it contracts in the development of rail-related research, including cooperative research programs.
| • A University transportation center engaged in rail-related research.
| • A non-profit labor organization representing a class or craft of employees of rail carriers or rail carrier contractors.
Eligible Project Types | • Deployment of railroad safety technology, including positive train control and rail integrity inspection systems.
| • A capital project as defined in 49 U.S.C. 22901(2), except that a project shall not be required to be in a State rail plan developed under 49 U.S.C. chapter 227.
| • A capital project identified by the Secretary as being necessary to address congestion or safety challenges affecting rail service.
| • A capital project identified by the Secretary as being necessary to reduce congestion and facilitate ridership growth in intercity passenger rail transportation along heavily traveled rail corridors.
| • A highway-rail grade crossing improvement project.
| • A rail line relocation or improvement project.
| • A capital project to improve short-line or regional railroad infrastructure.
| • The preparation of regional rail and corridor service development plans and corresponding environmental analyses.
| • Any project that the Secretary considers necessary to enhance multimodal connections or facilitate service integration between rail service and other modes.
| • The development and implementation of a safety program or institute designed to improve rail safety.
| • The development and implementation of measures to prevent trespassing and reduce associated injuries and fatalities.
| • Any research that the Secretary considers necessary to advance any particular aspect of rail-related capital, operations, or safety improvements.
| • Workforce development and training activities.
| • Research, development, and testing to advance and facilitate innovative rail projects.
| • The preparation of emergency plans for communities through which hazardous materials are transported by rail.
| • Rehabilitating, remanufacturing, procuring, or overhauling locomotives, provided that such activities result in a significant reduction of emissions.
| xvii. Deployment of Magnetic Levitation Transportation Projects.
Funding | The total funding available for awards under this NOFO is up to $2,478,391,050.
Deadline | Deadline: May 28, 2024.

A. Program Description

1. Overview

The Consolidated Rail Infrastructure and Safety Improvements (CRISI) Program is authorized under 49 U.S.C. 22907. The purpose of the CRISI Program is to invest in a wide range of projects within the United States to improve railroad safety, efficiency, and reliability; mitigate congestion at both intercity passenger rail and freight rail chokepoints to support more efficient travel and goods movement; enhance multi-modal connections; and lead to new or substantially improved Intercity Passenger Rail Transportation corridors. This program invests in railroad infrastructure projects that improve safety, support economic vitality (including through opportunities for small businesses), create good-paying jobs with the free and fair choice to join a union, increase capacity and supply chain resilience, apply innovative technology, and explicitly address climate change, gender equity and racial equity. The purpose of this notice is to solicit applications for the competitive CRISI Program provided in Consolidated Appropriations Act, 2023, division L, title I, Public Law 117-328 (2023 Appropriation), Consolidated Appropriations Act, 2024, division F, title I, Public Law 118-42 (2024 Appropriation) and the 2023 and 2024 advance appropriation in the Infrastructure Investment and Jobs Act, division J, title II, Public Law 117-58 (2021).

In addition to the funding made available for the CRISI Program, this NOFO includes funds for eligible projects under the Magnetic Levitation Technology Deployment Program (Maglev Grants Program) and solicits applications for eligible project costs for the deployment of magnetic levitation transportation projects. The Maglev Grants Program is authorized under and funded in the Consolidated Appropriations Act, 2021, division L, title I, Public Law 116-260 (2021 Appropriation), consistent with the language in section 1307(a) through (c) of Public Law 109-59 (SAFETEA-LU), as amended by section 102 of Public Law 110-244 (Technical Corrections Act) (23 U.S.C. 322 note). Applications for Maglev Grants Program funding that also seek funding under the CRISI Program will be evaluated consistent with the selection criteria for the Maglev Grants Program.

This NOFO integrates FRA's Guidance on Development and Implementation of Railroad Capital Projects (88 FR 2163, Jan. 12, 2023) (FRA's Capital Projects Guidance) which assists project sponsors in developing effective and complete capital projects by defining the project development process and describing implementation tools, processes, and documentation that may be required for a grant. FRA's Capital Projects Guidance can be found here: https://railroads.dot.gov/elibrary/fra-guidance-development-and-implementation-railroad-capital-project.

In December 2023, FRA updated its standard grant agreement terms and conditions. The new FRA grant agreement consists of three parts: Attachment 1: Standard Terms and Conditions, Attachment 2: Project-Specific Terms and Conditions, and Terms and Conditions Exhibits. The updated agreements are available at: https://railroads.dot.gov/grants-loans/fra-discretionary-grant-agreements.

The Department seeks to fund projects that advance the Administration Priorities of safety, equity, climate and sustainability, workforce development, job quality, and wealth creation as described in the U.S. Department of Transportation (DOT) Strategic Plan,¹ and in executive orders, which are described in section E.

¹ Additional information about the USDOT Strategic Plan, Research, Development and Technology Strategic Plan can be found here: https://www.transportation.gov/dot-strategic-plan.

2. Definitions of Key Terms

Terms defined in this section are capitalized throughout this notice.

a. “Benefit-Cost Analysis” (“BCA”) is a systematic, data-driven, and transparent analysis comparing monetized project benefits and costs, using a no-build baseline and properly discounted present values, including concise documentation of the assumptions and methodology used to produce the analysis; a description of the baseline, data sources used to project outcomes, and values of key input parameters; basis of modeling including spreadsheets, technical memos, etc.; and presentation of the calculations in sufficient detail and transparency to allow the analysis to be reproduced and for sensitivity of results evaluated by FRA. All project submissions to the CRISI program require a Benefit-Cost Analysis. Please refer to the updated Benefit-Cost Analysis Guidance for Discretionary Grant Programs (2024) prior to preparing a BCA at https://www.transportation.gov/office-policy/transportation-policy/benefit-cost-analysis-guidance-discretionary-grant-programs-0. In addition, please also refer to the BCA FAQs on FRA's website for rail specific examples of how to apply the BCA Guidance for Discretionary Grant Programs to CRISI applications.²

² Additional information about the BCA FAQs can be found here: https://railroads.dot.gov/rail-network-development/planning/project-planning/benefit-cost-analysis-guidance.

b. “Capital Project” means a project for acquiring, constructing, improving, or inspecting rail equipment, track and track structures, or a rail facility, including expenses incidental to the acquisition or construction including pre-construction activities (such as designing, engineering, location surveying, mapping, acquiring rights-of-way) and related relocation costs,³ environmental studies, and all work necessary for FRA to consider the effects of the proposed project under the National Environmental Policy Act; highway-rail grade crossing improvements; communication and signalization improvements; and rehabilitating, remanufacturing, or overhauling rail rolling stock and rail facilities.⁴

³ FRA will consider right-of-way acquisition only for applications which seek Construction funding.

⁴ For any project that includes purchasing Intercity Passenger Rail rolling stock, applicants are encouraged to use a standardized approach to the procurement of passenger rail equipment, such as the specifications developed by the Next Generation Corridor Equipment Pool Committee or a similar uniform process.

c. “Commuter Rail Passenger Transportation” means short-haul rail passenger transportation in metropolitan and suburban areas usually having reduced fare, multiple rides, and commuter tickets, and morning and evening peak period operations, consistent with 49 U.S.C. 24102(3). The term does not include rapid transit operations in an urban area that are not connected to the general railroad system of transportation.

d. “Construction” means the Lifecycle Stage of a Capital Project during which the Capital Project is completely built, installed and placed into use. Construction activities include, but are not limited to, physical construction and installation of the Capital Project, including testing of equipment, workforce training, and start-up testing. Construction activities occur after a project has completed Final Design.

e. “Deployment of Magnetic Levitation Transportation Projects” means, for purposes of this NOFO, transportation systems employing magnetic levitation that would be capable of safe use by the public at a speed in excess of 240 miles per hour.⁵

⁵ This definition only applies to projects eligible under the Maglev Grants Program. These projects may also be eligible for funding under the CRISI program consistent with 49 U.S.C. 22907(c).

f. “Final Design” or “FD” means the Lifecycle Stage of a Capital Project during which the Capital Project design is advanced to be ready for Construction. This is when the agreements necessary to construct and operate the Capital Project are secured, acquisition of right-of-way is completed, and final engineering plans and specifications necessary for construction of the project are produced. Final Design activities occur after a Capital Project has completed Project Development, and before a Capital Project can advance to Construction. Final Design is described in FRA's Capital Projects Guidance.

g. “Intercity Rail Passenger Transportation” means rail passenger transportation, except commuter rail passenger transportation. see 49 U.S.C. 22901(3), and in this NOFO, it has the same meaning as “Intercity Passenger Rail Service” and “Intercity Passenger Rail Transportation”.

h. “Lifecycle Stage” means each of the consecutive stages of a Capital Project as it is developed and implemented that include Systems Planning, Project Planning, Project Development, Final Design, Construction, and Operation. Each sequential stage involves specific activities. Lifecycle Stages are described in FRA's Capital Projects Guidance.

i. “Major Project” means a Capital Project with a capital cost estimate equal to or greater than $500 million and with at least $100 million in federal assistance under the CRISI Program. Major Project is described in FRA's Capital Project Guidance.

j. “National Environmental Policy Act” or “NEPA” (42 U.S.C. 4321 et seq.) is a Federal law that requires Federal agencies to analyze and document the environmental impacts of a proposed action in consultation with appropriate Federal, Tribal, state, and local authorities, and with the public. Environmental review under NEPA consists of an Environmental Impact Statement (EIS), Environmental Assessment (EA) or Categorical Exclusion (CE). The NEPA class of action depends on the potential environmental impacts of the proposed action. For purposes of this NOFO, NEPA also includes all related Federal laws and regulations including the Clean Air Act, section 4(f) of the Department of Transportation Act, section 7 of the Endangered Species Act, and section 106 of the National Historic Preservation Act. Additional information regarding FRA's environmental processes and requirements is located at https://railroads.dot.gov/rail-network-development/environment/environment. NEPA consultation and documentation are considered part of the Project Development Lifecycle Stage, as described in FRA's Capital Projects Guidance.

k. “Positive Train Control System” (“PTC”) is defined by 49 CFR 270.5 to mean a system designed to prevent train-to-train collisions, overspeed derailments, incursions into established work zone limits, and the movement of a train through a switch left in the wrong position, as described in 49 CFR part 236, subpart I.

l. “Preliminary Engineering” or “PE” means engineering design to define a Capital Project, including identification of all environmental impacts and design of all critical project elements at a level sufficient to ensure reliable cost estimates and schedules. The PE development process starts with specific project design alternatives that allow for the assessment of a range of rail improvements, specific alignments, and project designs. PE is considered part of the Project Development Lifecycle Stage, as described in FRA's Capital Projects Guidance.

m. “Project Development” means the Lifecycle Stage of a Capital Project during which the project sponsor conducts design, environmental, and other studies to ensure the Capital Project is ready for implementation. Project Development activities occur after a project sponsor has completed Project Planning, and before a Capital Project can advance to Final Design. Project Development is described in FRA's Capital Projects Guidance.

n. “Project Management Plan” means, under this NOFO, a document that describes how the Capital Project will be implemented, monitored, and controlled to help the project sponsor effectively, efficiently, and safely deliver the project on time, within budget, and at the highest appropriate quality. Project Management Plan is described in FRA's Capital Projects Guidance.

o. “Project Planning” is the first Lifecycle Stage of a Capital Project during which the project sponsor identifies Capital Project concepts to adequately address transportation needs and opportunities identifies and compares costs, benefits, and impacts of project options; identifies the impacted environmental resources and engages with interested parties, agencies, and infrastructure owners. Project Planning activities are completed before a Capital Project advances to Project Development. Project Planning is described in FRA's Capital Projects Guidance and consistent with the 2023 Appropriation.

p. “Rural Area” means any area that is not within an area designated as an urban area with at least 50,000 in population by the most recent decennial Census.

q. “Rural Project” means a project in which all or the majority of the project (determined by the geographic location or locations where the majority of the project funds will be spent) is located in a Rural Area.

r. “Significant Reduction of Emissions” as used in this NOFO, results from rehabilitating, remanufacturing, procuring, or overhauling: (1) a Non-Tiered, Tier 0, or Tier 1 locomotive to at least the Tier 2 level; (2) a Tier 2 or Tier 3 locomotive to at least a Tier 4 level; or (3) any locomotive to an all-electric, renewable diesel, battery-powered, or other renewable energy locomotive. Non-tiered, Tier 0 and Tier 1 locomotives must be retired if replaced. Emission standards and Tier designations for line-haul and switch locomotives are set by the U.S. Environmental Protection Agency, 40 CFR part 1033, subpart B.

s. “Systems Planning” means the first Lifecycle Stage when planning activities that support the development of a railroad capital plan, a state or regional rail plan, or a corridor service development plan that may identify a Capital Project, are completed. System Planning is described in FRA's Capital Projects Guidance.

t. “Relocation” means moving a rail line vertically or laterally to a new location. Vertical Relocation refers to raising above the current ground level or sinking below the current ground level of a rail line. Lateral Relocation refers to moving a rail line horizontally to a new location.

B. Federal Award Information

1. Available Award Amount & Special Funding Set-Asides

The total funding available for awards under this NOFO is up to $2,478,391,050, made available by the 2023 Appropriation, 2024 Appropriation, 2023 and 2024 advance appropriations provided in IIJA, and remaining unawarded 2022 CRISI balances.⁶ The total funding also includes $2,000,000 in FY 2021 funding for the Maglev Grant Program, as detailed in this section. Should additional CRISI Program funds become available after the release of this NOFO, FRA may elect to award such additional funds to applications received under this NOFO. Any awards made under this NOFO are subject to the availability of appropriated funds.

⁶ In addition to the $2,478,391,050 in CRISI funding made available in this NOFO, $80,727,922 in CRISI funds will be separately made available for Special Transportation Circumstances grants, $129,383,997 in CRISI funds will be set aside for the purposes, and in amounts, specified for Community Project Funding/Congressionally Directed Spending in the table entitled “Community Project Funding/Congressionally Directed Spending” included in the joint explanatory statement, and $55,179,159 in CRISI funds will be set aside for award and program oversight conducted by FRA.

Further, of the available award amount listed above, certain funding amounts are set aside for the following purposes under this NOFO:

a. Rural Set-Aside—At least $657,393,500, or 25 percent of the total amount appropriated of the CRISI Program funds, will be made available for projects located in Rural Areas as required in 49 U.S.C. 22907(g). FRA will consider a project to be in a Rural Area if all or the majority of the project (determined by the geographic location or locations where the majority of the project funds will be spent) is located in a Rural Area.

b. Intercity Passenger Rail Set-Aside—At least $150,000,000 will be made available for Capital Projects as defined by 49 U.S.C. 22901(2) that support the development of new Intercity Passenger Rail Service routes including alignments for existing routes, as described in 49 U.S.C. 22907(c)(2) and as required in the 2023 Appropriation.

c. Trespassing Measures Set-Aside—At least $32,724,132 ⁷ will be made available for the development and implementation of measures to prevent trespassing and reduce associated injuries and fatalities, as described in 49 U.S.C. 22907(c)(11) ⁸ and as required in the 2023 Appropriation.

⁷ This amount includes $25,000,000 in Fiscal Year 2023 Annual Appropriation and $7,724,132 in carryover funding from Fiscal Year 2022.

⁸ FRA will give preference to projects that are located in the top 25 counties with the most pedestrian trespasser casualties.

d. Magnetic Levitation Deployment Projects Set-Aside—$2,000,000 in 2021 Appropriation funding will be made available for the Deployment of Magnetic Levitation Transportation Projects. In addition, $5,000,000 will be made available from the 2023 Appropriation for preconstruction planning activities and capital costs related to the deployment of magnetic levitation transportation projects.

e. Workforce Development Set-Aside—At least $5,000,000 will be made available for workforce development and training activities, as described in 49 U.S.C. 22907(c)(13) and as required by the 2023 Appropriation.

2. Award Size

FRA anticipates making multiple awards with the available funding. FRA may not be able to award grants to all eligible applications even if they meet or exceed the stated evaluation criteria (see section E, Application Review Information). FRA strongly encourages applicants to seek funding for the appropriate Lifecycle Stage of a Capital Project, consistent with the application tracks in section C(3)(c) below. Where an application includes multiple Lifecycle Stages of a Capital Project, FRA may decide to only award funds for what it determines is the appropriate Lifecycle Stage.

In addition, projects may require more funding than is available. FRA encourages applicants to propose a project that has operational independence, or a component of such project, which can be completed and implemented with funding under this NOFO as a part of the total project cost together with other, non-Federal sources. (See section C(3)(c) for more information). While there is no predetermined minimum or maximum dollar threshold for individual awards, FRA encourages applications that request funding in excess of $1,000,000.

Applicants are not limited in the number of projects for which they seek funding. Applicants submitting more than one application are requested to submit a priority ranking of their submitted applications that is consistent with each application package submitted.

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight. The term “grant” is used throughout this document and is intended to reference funding awarded through a grant agreement or a cooperative agreement.

The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project.

The new FRA grant agreement consists of three parts: Attachment 1: Standard Terms and Conditions, Attachment 2: Project-Specific Terms and Conditions, and Terms and Conditions Exhibits. The grant agreement templates are available at: https://railroads.dot.gov/grants-loans/fra-discretionary-grant-agreements. These templates are subject to revision.

4. Concurrent Applications

DOT and FRA may concurrently solicit applications for transportation infrastructure projects for several financial assistance programs. Applicants may submit applications requesting funding for a particular project to one or more of these programs. In the application for funding under this NOFO, applicants must indicate the other program(s) to which they submitted an application for funding the entire project or certain components, as well as highlight new or revised information in the application responsive to this NOFO that differs from the previously submitted application(s).

C. Eligibility Information

This section of the notice explains applicant eligibility, cost sharing and matching requirements, project eligibility, and project component operational independence. Applications that do not meet the requirements in this section are ineligible for funding. Instructions for submitting eligibility information to FRA are detailed in section D of this NOFO.

1. Eligible Applicants

The following entities are eligible applicants for all CRISI projects under this notice: ⁹

⁹ For applications seeking funding under the Maglev Grant Program, only a State, States, or an authority designated by one or more States are eligible to receive funding under this NOFO.

a. A State (including the District of Columbia).

b. A group of States.

c. An Interstate Compact.

d. A public agency or publicly chartered authority established by one or more States.

e. A political subdivision of a State.

f. Amtrak or another rail carrier that provides intercity rail passenger transportation (as rail carrier and intercity rail passenger transportation are defined in 49 U.S.C. 24102).

g. A Class II railroad or Class III railroad, including any holding company of a Class II or Class III railroad (as those terms are defined in 49 U.S.C. 20102).¹⁰

¹⁰ Consistent with 49 U.S.C. 20102, a Class II and Class III railroad is defined as an entity that is a railroad carrier (under 49 U.S.C. 20102(3)) with an annual carrier operating revenue that meets the threshold amount for Class II and Class III carriers, as determined by the Surface Transportation Board in 49 CFR 1201.1-1.

h. An association representing one or more railroads described in paragraph (g).

i. A federally recognized Indian Tribe.

j. Any rail carrier or rail equipment manufacturer in partnership with at least one of the entities described in paragraphs (a) through (e).

k. The Transportation Research Board and any entity with which it contracts in the development of rail-related research, including cooperative research programs.

l. A University transportation center engaged in rail-related research.

m. A non-profit labor organization representing a class or craft of employees of rail carriers or rail carrier contractors.

Amounts awarded from the 2023 and 2024 Appropriation for otherwise eligible projects that implement or sustain Positive Train Control Systems are not subject to the limitation in 49 U.S.C. 22905(f) and may therefore be awarded for commuter rail passenger transportation projects. FRA may transfer such projects to the appropriate agency to administer.

The applicant serves as the primary point of contact for the application, and if selected, as the recipient of the grant award. An application may identify entities that are not eligible applicants as project partners.

2. Cost Sharing and Matching

The Federal share of total costs for CRISI Program projects funded under this NOFO shall not exceed 80 percent. The estimated total cost of a project must be based on the best available information, including engineering studies, studies of economic feasibility, environmental analyses, and information on the expected use of equipment and/or facilities. Additionally, in preparing estimates of total project costs, applicants are encouraged to use FRA's cost estimate guidance documentation, “Capital Cost Estimating: Guidance for Project Sponsors,” which is available at: https://www.fra.dot.gov/Page/P0926. Project sponsors should account for the impact of factors such as inflation as the applicant prepares their scope, schedule, and budget.

The minimum 20 percent non-Federal share may be comprised of public sector (e.g., State or local) or private sector funding. FRA will not consider any Federal financial assistance, or any non-Federal funds already expended (or otherwise encumbered) toward the matching requirement, unless such sources are compliant with 2 CFR part 200. In-kind contributions, including the donation of services, materials, and equipment, may be credited as a project cost in a uniform manner consistent with 2 CFR 200.306. In addition, applicants may count costs incurred for Preliminary Engineering associated with highway-rail grade crossing improvement projects and trespassing prevention projects as described in 49 U.S.C. 22907(c)(5) and (11), respectively, as part of the total project costs. Such costs are eligible as non-Federal share or for reimbursement, even if they were incurred before project selection for award, consistent with 49 U.S.C. 22907(h)(4).¹¹ Such costs must have been incurred no earlier than November 15, 2021, and must be otherwise compliant with 2 CFR part 200 and the requirements of this CRISI Program.

¹¹ FRA interprets the language in 49 U.S.C. 22907(h)(4) to permit FRA to reimburse grantees for Preliminary Engineering costs on Highway-rail grade crossing projects incurred before the date of project selection, if the costs would be permitted as part of total project costs if incurred after the date of project selection and are consistent with 2 CFR part 200.

If Amtrak or another rail carrier is an applicant under this CRISI Program, Amtrak or such other rail carrier, as applicable, may use ticket and other revenues generated from its operations and other sources to satisfy the non-Federal share requirements.

Funding under this NOFO may not be used for costs that are included in or used to meet cost sharing or matching requirements of any other Federally financed award or program. If the applicant is seeking additional funding for a project that has already received Federal financial assistance, costs associated with the scope of work for the existing Federal award are not eligible for funding under this NOFO. Only new scope elements/activities (e.g., new deliverables) are eligible for funding under this NOFO.

Before applying, applicants should carefully review the principles for cost sharing or matching in 2 CFR 200.306. See section D(2)(a)(iii) for required application information on non-Federal match and section E for further discussion of FRA's consideration of matching funds in the review and selection process. FRA will approve pre-award costs incurred after announcement of awards consistent with 2 CFR 200.458, as applicable. See section D(6). Cost sharing or matching may be used only for eligible expenses for authorized Federal award purposes.

All contracts for projects financed with Federal funds will be subject to applicable Federal requirements. Applicants that have entered into contracts for a proposed project prior to award must ensure that applicable Federal requirements are included in the contract in the event the project is selected and Federal funds are obligated.

3. Eligible Projects

a. The Following Are Eligible Under This NOFO

i. Deployment of railroad safety technology, including positive train control (PTC) and rail integrity inspection systems. PTC examples include: back office systems; wayside, communications and onboard hardware equipment; software; equipment installation; spectrum; any component, testing and training for the implementation of PTC systems; and interoperability. Maintenance and operating expenses incurred after a PTC system is placed in revenue service are ineligible. Railroad safety technology and rail integrity inspection system examples include: broken rail detection and warning systems; track intrusion systems; and hot box detectors, wheel impact load detectors, and other safety improvements.¹²

¹² Only costs for FD and Construction stages and forward are eligible within this eligibility category.

ii. A capital project as defined in 49 U.S.C. 22901(2), except that a project shall not be required to be included in a State rail plan developed under 49 U.S.C. chapter 227.

iii. A capital project identified by the Secretary as being necessary to address congestion or safety challenges affecting rail service.¹³

¹³ FRA interprets “capital project” in this section to mean a Capital Project as defined in this NOFO. For example, a track improvement project that also addresses congestion or safety issues.

iv. A capital project identified by the Secretary as being necessary to reduce congestion and facilitate ridership growth in intercity passenger rail transportation along heavily traveled rail corridors.¹⁴

¹⁴ FRA interprets “capital project” in this section to mean a Capital Project as defined in this NOFO. For example, an intercity passenger rail track project on a heavily trafficked corridor.

v. A highway-rail grade crossing improvement project, including installation, repair, or improvement of grade separations, railroad crossing signals, gates, and related technologies, highway traffic signalization, highway lighting and crossing approach signage, roadway improvements such as medians or other barriers, railroad crossing panels and surfaces, and safety engineering improvements to reduce risk in quiet zones or potential quiet zones.

vi. A rail line relocation or improvement project.

vii. A capital project to improve short-line or regional railroad infrastructure.

viii. The preparation of regional rail and corridor service development plans and corresponding environmental analyses.¹⁵

¹⁵ These are planning activities normally performed during the Systems Planning Lifecycle Stage. Consistent with the 2023 Appropriations, railroad project-level planning activities are also eligible.

ix. Any project that the Secretary considers necessary to enhance multimodal connections or facilitate service integration between rail service and other modes, including between intercity rail passenger transportation and intercity bus service or commercial air service.¹⁶

¹⁶ FRA interprets “project” in this section to mean a Capital Project as defined in this NOFO.

x. The development and implementation of a safety program or institute designed to improve rail safety.

xi. The development and implementation of measures to prevent trespassing and reduce associated injuries and fatalities. Examples include: trespass-related Capital Projects (such as physical barriers, fencing, or equipment), trespassing enforcement activities, and outreach campaigns resulting in trespasser deterrence and prevention.

xii. Any research that the Secretary considers necessary to advance any particular aspect of rail-related capital, operations, or safety improvements.

xiii. Workforce development and training activities, coordinated to the extent practicable with the existing local training programs supported by the Department of Transportation, the Department of Labor, and the Department of Education.¹⁷

¹⁷ Workforce development, training and related eligible activities are not limited to those coordinated with the existing local training programs supported by the Department of Transportation, the Department of Labor, and the Department of Education.

xiv. Research, development, and testing to advance and facilitate innovative rail projects, including projects using electromagnetic guideways in an enclosure in a very low-pressure environment.

xv. The preparation of emergency plans for communities through which hazardous materials are transported by rail.

xvi. Rehabilitating, remanufacturing, procuring, or overhauling locomotives, provided that such activities result in a significant reduction of emissions.

xvii. Deployment of Magnetic Levitation Transportation Projects.¹⁸ Project eligibility is further provided in Track 5, as described in section C(3)(c)(v).

¹⁸ This category covers projects that are eligible under the Maglev Grants Program. Projects under this category may also be eligible to receive CRISI Program funds, to the extent the application complies with all CRISI Program requirements. Applications for funding under both Programs will be evaluated consistent with the selection criteria for the Maglev Grants Program.

b. Project Component

If an applicant requests funding for a component or set of components of a larger Capital Project, the project component(s) included in the application must be attainable with the award amount and comply with all eligibility requirements described in section C. In addition, the component(s) must enable independent analysis and decision making, as determined by FRA, under NEPA (i.e., have independent utility, connect logical termini, and not restrict the consideration of alternatives for other reasonably foreseeable rail projects).

c. Application Tracks

Applicants are not limited in the number of projects for which they seek funding. FRA generally evaluates applications in Tracks based on the Lifecycle Stages of a Capital Project. While applications covering multiple Lifecycle Stages are not precluded, FRA generally expects that applications identify only one of the following tracks for an eligible proposed project:

• Track 1—Systems Planning and Project Planning;

• Track 2—Project Development;

• Track 3—FD/Construction;

• Track 4—Research, Workforce Development, Safety Programs and Institutes (Non-Railroad Infrastructure); or

• Track 5—Deployment of Magnetic Levitation Transportation Projects.

FRA strongly encourages applicants to seek funding for the appropriate Lifecycle Stage of a Capital Project, consistent with these application tracks. To the extent possible, applicants should describe their projects consistent with FRA's Capital Projects Guidance, which provides a detailed description of each Lifecycle Stage and its required activities: https://railroads.dot.gov/elibrary/fra-guidance-development-and-implementation-railroad-capital-project.

If an application seeks funding under more than one application Track for multiple Lifecycle Stages, FRA may award funds for the application Track and corresponding Lifecycle Stage(s) it determines most appropriate based on project readiness information. Applicants are directed to identify the project components and estimated amount of Federal funding requested for each Lifecycle Stage. If an application selected for award includes multiple Lifecycle Stages, FRA will require the grantee to complete the Lifecycle Stages in the order consistent with FRA's Capital Projects Guidance.

i. Track 1—Systems Planning and Project Planning: Track 1 consists of Systems Planning and/or Project Planning specific to an eligible Capital Project. Systems Planning examples include the technical analyses and associated environmental analyses that support the development of railroad capital plans, state rail plans, regional rail plans, and corridor service development plans, including: Identification of alternatives, rail network planning, market analysis, travel demand forecasting, revenue forecasting, railroad system design, railroad operations analysis and simulation, equipment fleet planning, station and access analysis, conceptual engineering and capital programming, operating and maintenance cost forecasting, capital replacement and renewal analysis, and economic analysis. Example activities for Project Planning include: the development of a purpose and need statement; completion of conceptual engineering and other design; documentation showing that project alternatives were considered; completion of an environmental resource inventory and potential environmental concerns analysis; scale design drawings; public and stakeholder involvement; completion of an order-of-magnitude project cost estimate; and for Major Projects, completion of an initial Project Management Plan. Project Planning projects funded under this NOFO must be sufficiently developed when complete to support Project Development activities.

ii. Track 2—Project Development: Track 2 consists of projects for eligible Project Development activities. Example activities include: completion of PE and architectural or other design; PE drawings and specifications (scale drawings at the 30 percent design level, including track geometry as appropriate); design criteria, schematics and/or track charts that support the development of PE; work that can be funded in conjunction with developing PE, such as operations modeling, surveying, project work/management plans, preliminary cost estimates, and preliminary project schedules; completion of environmental review; and completion of applicable project management documentation (such as a project management plan, schedule, capital cost estimate, and financial plan). Project Development projects funded under this NOFO must first demonstrate completion of Project Planning elements prior to Project Development funds being awarded and be sufficiently developed when complete to support FD or Construction activities.

iii. Track 3—FD/Construction: Track 3 consists of projects for eligible FD and Construction activities. Applicants must complete all necessary Planning and Project Development stages, including PE and NEPA requirements, prior to moving to the FD/Construction stage of a project. FD activities may include completion of the FD documentation, acquisition of right-of-way,¹⁹ resolving remaining uncertainties or risks associated with changes to the design and scope of the Capital Project; addressing procurement processes; and updating/completing the applicable project management documentation (such as a Project Management Plan, schedule, capital cost estimate, and financial plan).²⁰ Construction activities may include physical construction and installation of the capital project, including procurement and manufacturing of vehicles and equipment, project administration, testing of equipment (e.g., signal equipment and rolling stock), systems integration testing, workforce training, system certification, procurement of insurance, provision of warrantees, pre-revenue service, and start-up testing. Prior to obligation, applicants selected for funding for FD/Construction must demonstrate completion of applicable Systems Planning and Project Planning and Project Development activities, consistent with FRA's Capital Projects Guidance.

¹⁹ FRA will only award funds for right-of-way (ROW)/property acquisition activities if the proposed project also includes construction activities consistent with the Construction Lifecycle Stage. FRA will not fund ROW acquisition activities independently or if proposed project only includes pre-construction activities or Lifecycle Stages (i.e., Project Planning, Project Development, or Final Design).

²⁰ Applicants selected for funding are encouraged to submit the following before obligation: an updated Project Management Plan (including a schedule, capital cost estimate, and financial plan), as grantees will be expected to develop a Project Management Plan under the grant agreement. See FRA's Capital Projects Guidance, Section V—Project Management for additional information.

iv. Track 4—Research, Workforce Development, Safety Programs, and Institutes (Non-Railroad Infrastructure): Track 4 consists of projects not falling within Tracks 1-3, or 5, and includes workforce development activities, research, safety programs or institutes designed to improve rail safety that clearly demonstrate the expected positive impact on rail safety and research, development and testing to advance innovative rail projects. Sufficient detail must be provided on what the project will accomplish, over what duration as well as the applicant's capability to achieve the proposed outcomes. Funding under this track may be sought for projects extending over multiple fiscal years. Examples include initiatives for improving rail safety, training, preparation of hazardous materials emergency plans, trespass enforcement activities, and outreach campaigns resulting in trespasser deterrence and prevention. Applicants with proposed projects at the FRA Transportation Technology Center (TTC), located in Pueblo, Colorado, must demonstrate there is appropriate participation from relevant stakeholders, at the time of application.

v. Track 5—Deployment of Magnetic Levitation Transportation Projects: Track 5 consists of eligible projects that (1) involve a segment or segments of a high-speed ground transportation corridor; (2) result in an operating transportation facility that provides a revenue producing service; (3) are approved by the Secretary based on an application submitted to the Secretary of Transportation by a State or authority designated by one or more States. Eligible project costs are: (1) The capital cost of the fixed guideway infrastructure of a Maglev project including land acquisition, support structures, guideways, propulsion equipment and other components attached to guideways, power distribution facilities (including substations), control and communications facilities, access roads, and storage, repair, and maintenance facilities and (2) preconstruction planning activities. Eligible project costs exclude new stations and rolling stock, as well as costs incurred solely for land or right-of-way acquisition (even if such acquisition is to secure future operational right-of-way). Applicants applying under Track 5 will be evaluated under the additional Maglev Grants Program criteria, even if also applying for CRISI Program funding. Please see section E(2)(b) for further details.

d. Rural Project

FRA will consider a project to be in a Rural Area if all or the majority of the project (determined by geographic location(s) where the majority of the project funds will be spent) is located in a Rural Area. However, in the event FRA elects to fund a component of the project, then FRA will reevaluate whether the project is in a Rural Area.

D. Application and Submission Information

Required documents for the application are outlined in the following paragraphs. Applicants must complete and submit all components of the application for the application to be reviewed by FRA. An applicant that fails to submit all required documentation prior to the closing period of the notice may have its application deemed incomplete and will not advance to evaluation review. See section D(2) for the required documents and information for an application package. FRA welcomes the submission of additional relevant supporting documentation, such as planning, engineering, and design documentation, and letters of support from partnering organizations, which will not count against the Project Narrative 25-page limit.

1. Address To Request Application Package

Applicants may access application materials at https://www.Grants.gov and must submit all application materials in their entirety through https://www.Grants.gov no later than 11:59 p.m. EST, on May 28, 2024. Applicants must complete an Authorized Organization Representative (AOR) profile on www.Grants.gov and create a username and password. Additional information about the registration process is available at: https://www.grants.gov/applicants/applicant-registration.

Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided or paper copies of materials, please contact Ms. Laura Mahoney, Office of the Chief Financial Officer, Federal Railroad Administration, 1200 New Jersey Avenue SE, Washington, DC 20590; email: laura.mahoney@dot.gov; or telephone: 202-578-9337.

The E-Biz point of contact (E-Biz POC) at the applicant's organization must respond to the registration email from Grants.gov and login at www.Grants.gov to authorize the applicant as the AOR. Please note there can be more than one AOR for an organization.

If an applicant has difficulty at any point during this process, please call the Grants.gov Customer Center Hotline at 1-800-518-4726, 24 hours a day, 7 days a week (closed on Federal holidays). For information and instructions on each of these processes, please see instructions at: https://www.grants.gov/support.

2. Content and Form of Application Submission

FRA strongly advises applicants to read this section carefully. Applicants must submit all required information and components of the application package to be considered for funding. Applications that are not submitted on time or do not contain all required documentation will not be considered for funding. To support the application, applicants may provide additional relevant and available optional supporting documentation that may have been developed by the applicant, especially such documentation that provides evidence of completion of the appropriate Lifecycle Stage(s) of a Capital Project. Additionally, applicants selected to receive funding must satisfy the requirements in 49 U.S.C. 22905, including FRA's Buy America requirement and conditions explained in part at https://www.fra.dot.gov/page/P0185 and further in section F.2 of this notice. Required documents and information for an application package include the following:

Application information | NOFO section for guidance
Project Narrative | See D.2.a.
Statement of Work | See D.2.b.i.
Benefit-Cost Analysis | See D.2.b.ii.
Environmental Compliance Documentation | See D.2.b.iii.
Draft Agreement required under 49 U.S.C. 22905(c)(1), if applicable | See D.2.b.iv.
SF 424—Application for Federal Assistance ²¹ | See D.2.b.v.
SF 424A—Budget Information for Non-Construction or SF 424C—Budget Information for Construction | See. D.2.b.vi.
SF 424B—Assurances for Non-Construction or SF 424D—Assurances for Construction | See D.2.b.vii.
FRA's F 30—Certifications Regarding Debarment, Suspension and Other Responsibility Matters, Drug-Free Workplace Requirements and Lobbying | See D.2.b.viii.
FRA F 251—Applicant Financial Capability Questionnaire | See D.2.b.ix.
SF LLL—Disclosure of Lobbying Activities, if applicable | See D.2.b.x.

a. Project Narrative

²¹ The amount requested from the CRISI program on the SF-424 is the official record of request, and therefore must be consistent with the amount requested in the Project Narrative and Statement of Work documents, including the breakdown of Federal and Non-Federal sources. For applications with discrepancies, FRA will defer to the funding amount in the SF-424.

This section describes the minimum content the applicant is required to provide in the Project Narrative section of the grant application. The Project Narrative must follow the basic outline below to address the program requirements and assist evaluators in locating relevant information.

I. Cover Page | See D.2.a.i.
II. Project Summary | See D.2.a.ii.
III. Grant Funds, Sources and Uses of Project Funds | See D.2.a.iii.
IV. Applicant Eligibility Criteria | See D.2.a.iv.
V. Project Eligibility Criteria | See D.2.a.v.
VI. Detailed Project Description | See D.2.a.vi.
VII. Project Location | See D.2.a.vii.
VIII. Evaluation and Selection Criteria | See D.2.a.viii.
IX. Project Implementation and Management | See D.2.a.ix.

The applicant must provide the content listed above in a narrative statement. The Project Narrative may not exceed 25 pages in length (excluding cover pages, table of contents, and supporting documentation). When possible, applicants should submit supporting documents via website links rather than hard copies. If supporting documents are submitted, applicants must clearly identify the relevant portion of the supporting document with the page numbers of the cited information in the Project Narrative. The Project Narrative must adhere to the following outline.

i. Cover Page: include a cover page that lists the following elements in either a table or formatted list:

Project Title |
Applicant Name |
Amount of CRISI Program Funding Requested under this NOFO | $:
Amount of Proposed Non-Federal Match | $:
Other Sources of Federal funding, if applicable | Provide funding source and amount. $:
Source(s) of Proposed Non-Federal Match |
Total Project Cost | $:
Was a Federal Grant Application Previously Submitted for this Project? | Yes/No. If yes, please specify the program, funding year and project title of the previous application, and identify any differences between the applications.
City(ies), County(ies), State(s) Where the Project is Located |
Is the Project Located in a Rural Area? | Yes/No.
Congressional District(s) Where the Project is Located |
Application Track(s) proposed to be funded by this NOFO? |
Lifecyle Stage(s) proposed to be funded by this NOFO? |
Current Lifecycle Stage and Anticipated completion of current Lifecycle Stage? |
Is the Project located on real property owned by someone other than the applicant? | If yes, list real property owners and the nature of the property interest.
Host Railroad/Infrastructure Owner(s) of Project Assets; |
Other impacted Railroad(s) |
Tenant Railroad(s), if applicable |
If applicable, is a 49 U.S.C. 22905-compliant Railroad Agreement executed or pending? | Yes/No/Pending.
Is the project currently programmed in ANY medium- or long-range planning document: For example, State rail plan, or interregional intercity passenger rail systems planning study, State Freight Plan, TIP, STIP, MPO Long Range Transportation Plan, State Long Range Transportation Plan, etc.? | Yes/No, and if yes, specify.
Is the project located on a potential corridor selected for the Corridor Identification and Development Program? ²² | Yes/No, if yes, specify the corridor(s).
Is this a project eligible under 49 U.S.C. 22907(c)(2) that supports the development of new intercity passenger rail service routes including alignments for existing routes? | Yes/No.
Is this a project eligible under 49 U.S.C. 22907(c)(11) that supports the development and implementation of measures to prevent trespassing and reduce associated injuries and fatalities? | Yes/No.
If YES to the previous question, is this project located in a county identified in FRA's National Strategy to Prevent Trespassing on Railroad Property? | Yes/No.
Is the application seeking consideration for funding under the Maglev Grants Program? | Yes/No.

ii. Project Summary: Provide a brief 4-6 sentence summary of the proposed project. Include challenges the proposed project aims to address and summarize the intended outcomes and anticipated benefits that will result from the proposed project.

²² For more information about selected Corridors under the Corridor Identification Program, please visit: https://railroads.dot.gov/elibrary/fy22-CID-program-selections.

iii. Grant Funds, Sources and Uses of Project Funds:

Project budgets should show how different funding sources will share in each activity and present the data in dollars and percentages. The budget should identify other Federal funds the applicant is applying for, has been awarded, or intends to use. Funding sources should be grouped into three categories: non-Federal, CRISI request, and other Federal with specific amounts for each funding source. As shown in the table format below, the applicant should indicate the amount in dollars and percentages of CRISI or Maglev Grants Program funding requested, the amount of non-Federal match, source(s) for all non-Federal match,²³ other Federal funds (if applicable), and the total project cost. FRA may not award more funding for a project than is requested in an application. The applicant should itemize funding by project Lifecycle Stage(s) and by project activity. For a Major Project, applicants are encouraged to provide an annualized budget in year of expenditure dollars. Project budget information must be consistent throughout all application materials, specifically the Standard Form (SF) 424, Project Narrative, Statement of Work, and funding commitment letters.²⁴ The project budget should be specific to the project scope described in the applicant's request for funding under this NOFO. If the project proposed to be funded under this NOFO is part of a larger scope, the applicant may reference the larger scope in the Project Narrative but should only include the project scope proposed to be funded under this NOFO within the budget table.

²³ Applicants should submit evidence of the availability of Non-Federal funds, which may include a board resolution, letter of support from the State, a budget document highlighting the line item or section committing funds to the proposed project. The applicant may provide this documentation in an appendix. Documentation of previous and recent local investments in the project may evidence of local financial commitment project, but cannot be used to satisfy non-Federal matching requirements. Any funding commitment letters must be signed by an authorized representative of the entity providing a Non-Federal match.

²⁴ If there is a discrepancy between materials, FRA will defer to the funding amounts shown in the applicant's SF 424 as the amount requested for funding.

If applicable, the applicant should explain if the CRISI Program request or other funds must be obligated or spent by a certain date.

If applicable, the applicant should provide the type and estimated value of any proposed in-kind contributions, as well as explain how the contributions meet the requirements in 2 CFR 200.306. If the applicant is requesting set-aside funds per section B(1), identify the dedicated activities and amount requested within the budget table.

Example Project Funding Table: Applicants may use the following table to describe project funding, and may use additional rows and columns, or additional project funding tables, as appropriate.

Task # | Task name/project component | Cost | Percentage of total cost | Source of funds and citation, as applicable
1
2
Total Project Cost
Federal Funding Requested in this Application (CRISI Program Request)
Non-Federal Funding (State) | Cash: In-Kind:
Non-Federal Funding (Private Sector) | Cash: In-Kind:
Non-Federal Federal Funding (Local) | Cash: In-Kind:
Other Committed Federal Funding ²⁵ (e.g., Federal Highway Administration, congressionally directed/earmark, other FRA grant program funds—including previous CRISI grants, etc.)
Note: If there are multiple sources of other federal funding, please break funding down by each source
Other Pending Federal Funding Requests ²⁶
Amount (if any) of funding request eligible for set-aside funds as described in section B(1)
Portion of Total Project Costs Spent in a Rural Area, if applicable
For Highway-rail grade crossing and trespass prevention projects only. Does some or all the proposed Non-Federal Match for the total project cost consist of preliminary engineering costs incurred before project selection (but after November 15, 2021)? ²⁷ | If yes, how much?

iv. Applicant Eligibility Criteria: In this section, the applicant must explain how it meets the applicant eligibility criteria outlined in section C of this NOFO and include citations to appropriate authorities that demonstrate the applicant's eligibility to receive federal funds. For example, if the applicant is a political subdivision of a State, public agency or publicly chartered authority established by one or more States, the applicant should provide relevant legislative language, including citations to the applicable enabling legislation, that demonstrate the applicant's legal status. Applicants that fail to adequately demonstrate their legal status may be found ineligible and their application will not be reviewed.

²⁵ For other Federal funding sources proposed as match, the applicant should explain why the Federal funds are eligible as match and the legal basis for that determination.

²⁶ For other Federal funds that will be used for the project, the applicant should identify the Federal program and fiscal year of the funding request(s), as well as highlight new or revised information in the application responsive to this NOFO that differs from the application(s) to other financial assistance programs.

²⁷ If seeking to use Preliminary Engineering costs as match for a Highway-Rail Grade Crossing Improvement Project or trespassing prevention projects, please identify the costs incurred before project selection (but after November 15, 2021).

v. Project Eligibility Criteria: Explain how the proposed project meets the project eligibility criteria in section C(3) of this NOFO.

vi. Detailed Project Description: In this section, the applicant must provide a detailed project description that expands upon the brief project summary. This detailed description should provide, at a minimum: additional background on the challenges the project aims to address; a summary of current and proposed railroad operations in the project area and service frequency, which should include identification of all railroad owners and operators; typical daily, weekly, or annual train counts by operator; the primary expected project outcomes such as increased safety outcomes or reduced delays, improved rail network asset condition and performance, or similar outcomes and benefits; the expected users and beneficiaries of the project, including all railroad operators; the specific components and elements of the project; and any other information the applicant deems necessary to justify the proposed project. For all projects, applicants must provide information about proposed performance measures, as described in section F(3) and required in 2 CFR 200.301.

(A) Grade crossing information, if applicable: For any project that includes grade crossing components, applicants must provide the following information for each grade crossing to be addressed in the application. The following table format can be used within the Project Narrative or, if more space is needed, in a separate, unlocked Excel file attachment (the table will not count against the 25-page Project Narrative page limit):

1. US DOT grade crossing inventory number (for projects involving pathway-rail grade crossings that do not have US DOT grade crossing inventory numbers or data, applicants should provide as much locational data as possible); ²⁸

²⁸ To find US DOT grade crossing inventory number(s) and location(s) please see https://railroads.dot.gov/safety-data/fra-safety-data-reporting/crossing-inventory-data-search. Applicants are encouraged to review and reference safety data including the most recent 5-year history of highway-rail crossing incidents relevant to their project on FRA's public safety website: https://safetydata.fra.dot.gov/OfficeofSafety/publicsite/crossing/crossing.aspx or https://data.transportation.gov/dataset/Highway-Rail-Grade-Crossing-Accident-Data-Form-57-/aeeh-bp8c/explore.

2. The proposed improvement requested in the application, using “new, separated, closed or improved” (such as gate additions, lights, etc.) to describe proposed improvement;

3. The operator(s) (i.e., the entity(ies) that operates on the railroad right-of-way);

4. The property owner (i.e., the entity(ies) which own the underlying property or right-of-way;

5. The infrastructure owner (i.e., the entity that owns the infrastructure within the railroad right-of-way); and

6. The grade crossing location latitude and longitude coordinates, expressed with at least five decimal places of precision.²⁹

²⁹ For example, if a project was proposed to take place at the Department of Transportation Headquarters in Washington, DC then the reported latitude should be 38.87589 and the longitude should be reported as−77.00337.

Example Table 1. In Project Narrative or attached as an appendix in unlocked Excel file format:

US DOT grade crossing inventory # | Proposed improvement | Rail operator(s) | Railroad owner | Latitude coordinates (at least five decimal places of precision) | Longitude coordinates (at least five decimal places of precision)
* Example Table 1: Grade Crossing Information for Proposed Project.

In addition, if applicable, applicants should provide the page number in the State Highway-Rail Grade Crossing Action Plan where the grade crossing is referenced. Applicants should specify whether the project will result in the elimination of one or more grade crossings through grade separation or otherwise.

(B) Heavily traveled rail corridor information, if applicable: For any project eligible under the eligibility category that reduces congestion and facilitates ridership growth in Intercity Passenger Rail Transportation, applicants must describe how the project is located on a heavily traveled rail corridor.

(C) PTC information, if applicable: For any project that includes deploying PTC, applicants must: (1) document submission of a Positive Train Control Implementation Plan (PTCIP) to FRA pursuant to either 49 U.S.C. 20157(a) or 49 CFR part 236, subpart I (FRA's PTC regulations); (2) document that it is a tenant on one or more host railroads that submitted a PTCIP to FRA; or (3) document how the proposed project will assist in the deployment (i.e., installation and/or full implementation) of PTC, including whether the PTC technology is being implemented voluntarily or pursuant to the statutory mandate for certain main lines.

(D) Workforce development and training information, if applicable: For any project that includes workforce development, applicants must document to the extent practicable similar existing local training programs supported by the Department of Transportation, the Department of Labor, and/or the Department of Education. The applicant must also (a) describe whether the workforce development project incorporates union representation, and (b) describe any involvement or partnership with existing in-house skills training programs, unions and worker organizations, community colleges and public school districts, community-based organizations, supportive services providers, pre-apprenticeships tied to registered apprenticeships, registered apprenticeship programs and other labor-management training programs, or other quality workforce training providers. Applicants are strongly encouraged to outline their plan to recruit, train, and retain a locally hired, diverse workforce.

(E) Trespassing injury and fatality prevention and reduction, if applicable: Provide documentation indicating whether the project is located in a county(ies) with high pedestrian trespasser casualties, as identified in FRA's National Strategy to Prevent Trespassing on Railroad Property, whether the applicant has incorporated the Community Trespass Prevention Program ³⁰ into their project approach, whether and how law enforcement agencies will undertake trespass enforcement activities as part of a larger strategy, whether the project would include funding for law enforcement wages to undertake trespass enforcement activities,³¹ and how and whether the project targets hot spots identified by geospatial data. If the project includes an outreach campaign to reduce suicide by railroad, applicants must provide a detailed description of the proposed outreach campaign, including (but not limited to) relevant data on rail-related suicides in the project location, the manner and extent to which trespass suicide is expected to be reduced, and examples of prior efforts to address rail-related suicide.

³⁰ The Community Trespass Prevention Program is a problem-solving model designed to provide a step-by-step approach for dealing with trespassing issues in communities. For more information, see https://railroads.dot.gov/sites/fra.dot.gov/files/fra_net/1265/USCommunityTrespassPreventionGuide_2010F%282-29%29.pdf.

³¹ Funding for law enforcement activities is limited to hourly wages for law enforcement officials to undertake enforcement activities at areas that demonstrate a rail trespassing problem in their community on FRA-regulated track. The hourly rate for law enforcement officers performing enforcement activities should be limited to the officer's regular and overtime wage rate (e.g. 1.5 times the base rate).

(F) Emissions reductions information, if applicable: For any projects involving rehabilitating, remanufacturing, procuring, or overhauling locomotives resulting in significant reduction of emissions, identify the number of locomotives that will be procured, replaced, or retired. Also, describe the anticipated emissions reductions earned and fuel saving estimates. FRA has developed the Locomotive Emissions Comparison Tool, which applicants may use to calculate locomotive emissions reductions. The Tool is available at: https://railroads.dot.gov/elibrary/fra-locomotive-emissions-comparison-tool.

(G) Community Emergency Plans, if applicable: For projects involving the preparation of emergency plans for communities through which hazardous materials are transported by railroad, include commitments for coordination by stakeholders including representatives from the chemical manufacturing industry, distributors, shippers, railroads (and other transportation industry and supply chain representatives), emergency response providers (including firefighters, emergency medical technicians hazmat employees, and law enforcement) and federal, state and local governments. Based on information provided by the transporting railroads, identify the hazardous materials transported through the relevant community by hazard class as defined in 49 CFR 173.2. Proposed plans should address all such hazardous materials and may include rationales for focusing on certain hazardous materials if appropriate. Include the emergency types planned for and the approach for developing and communicating the plan. Include a description of proposed training, including frequency (funding may be sought for projects extending multiple years) and attendees and any required materials.

(H) Maglev Grants Program Magnetic Levitation Transportation Projects, if applicable. Applicants must provide a detailed description of the project, which should include, at a minimum: background on the current transportation challenges the project aims to address, the expected users, beneficiaries, and outcomes of the project, and any other information the applicant deems necessary to justify the proposed project. Applicants should provide specific information regarding the relevance or relationship of the proposed project to other investments in the region along the corridor, as well as the operating changes that are anticipated to result from the introduction and integration of Maglev services within existing transportation corridors and assess the major risks (including safety risks and energy consumption) or obstacles to Maglev's successful deployment and operation. Provide information on the variety of operating conditions that would be expected for the project area, which may include, for example, a variety of at-grade, elevated and depressed guideway structures; extreme temperatures; or intermodal connections at terminals. Provide a detailed summary of all work completed to date, including any preliminary engineering work, the project's previous accomplishments and funding history including Federal financial assistance, and a chronology of key documents produced and funding events (e.g., grants and financing). The applicant should specify whether they are seeking funding for a project that has already received Federal financial assistance, and if applicable, explain how the new scope proposed to be funded under this NOFO relates to the previous scope.

vii. Project Location: Applicants must include geospatial data for the project, as well as a map of the project's location. Geospatial data must be expressed in decimal degrees for latitude and longitude with at least five decimal places of precision. If the project includes a length of track or corridor development, the start and end coordinates for each corridor or segment must be provided. Milepost, railroad, and subdivision identifiers can also be provided but must be accompanied by corresponding latitudes and longitudes. For projects with multiple locations, the corresponding geospatial data must be included for each location, with individual columns for latitude and longitude, in table form as an attachment to the application. On the map, include the Congressional districts in which the project will take place.

viii. Evaluation and Selection Criteria: The applicant must include a thorough discussion of how the proposed project meets the evaluation and selection criteria. As described in section E, FRA will evaluate applications based on project readiness, technical merit and project benefits, and will consider how the applicant's project aligns with the Administration Priorities. If an application does not sufficiently address the evaluation criteria and the selection criteria, it is unlikely to be a competitive application. Applicants are expected to follow the directions and format requested in this NOFO, and adherence to these directions will be considered in evaluations. Applicants are encouraged to include quantifiable railroad data, such as information on delay, failure or safety incidents, daily train movement, or similar metrics, and should include qualitative data on accessibility improvements to either new or existing assets. To the extent feasible, such railroad metrics should be provided and analyzed discretely for intercity passenger rail and, if applicable, commuter rail passenger transportation and freight rail transportation services involved in the proposed project. For more information on performance metrics see FRA's Metrics and Minimum Standards for Intercity Passenger Rail Service, available at: https://railroads.dot.gov/elibrary/metrics-and-standards-final-rule-november-16-2020.

xiii. Project Implementation and Management: Applicants must describe proposed project implementation and project management arrangements. Include descriptions of the expected arrangements for project contracting (construction, maintenance and operation), contract oversight and control, change-order management, risk management, and conformance to Federal requirements for project progress reporting (see FRA Reports, available at: https://www.fra.dot.gov/Page/P0274). Further, applicants must provide their plan for taking affirmative steps to employ small businesses consistent with 2 CFR 200.321. Describe experience in managing and overseeing similar projects; the technical qualifications and demonstrated experience of key personnel proposed to lead and perform the technical efforts; and the qualifications of the primary and supporting organizations to fully and successfully execute the proposed project within the proposed timeframe and budget, including a discussion of the factors in 2 CFR 200.206(b) and the proposed approach to assessing and mitigating project risk.

b. Additional Application Elements

Applicants must submit the following documents and forms. Note, the Standard OMB Forms needed for the electronic application process are available at: www.Grants.gov.

i. A Statement of Work (SOW) addressing the scope, schedule, budget, and performance measures for the proposed project if it were selected for award. The applicant should include sufficient detail in the SOW so FRA can understand the expected outcomes of the proposed work to be performed and can monitor progress toward completing project tasks and deliverables during a prospective grant's period of performance. Applicants are expected to include Articles 4-7 of Attachment 2: Project Specific Terms and Conditions, at a minimum.³² Applications that do not follow this format may be considered incomplete and may not be reviewed.

³² https://railroads.dot.gov/grants-loans/fra-discretionary-grant-agreements.

When preparing the budget, the total cost of a project must be based on the best available information as indicated in cited references that include engineering studies, economic feasibility studies, environmental analyses, and information on the expected use of equipment or facilities. Applicants must include annual budget estimates in year of expenditure dollars for the duration of the project.

ii. A Benefit-Cost Analysis (BCA), as an appendix to the Project Narrative, for each project described in the application. A Benefit-Cost Analysis is required for all CRISI program submissions. The BCA must demonstrate in economic terms the merits of investing in the proposed project. Estimates of benefits should be presented in monetary terms whenever possible; if a monetary estimate is not possible, the applicant should provide a quantitative estimate (in physical, non-monetary terms, such as crash or employee casualty rates, ridership estimates, emissions levels, energy efficiency improvements, etc.). The BCA for Track 1 Planning and Track 2 Project Development projects should be for the underlying project, not the planning or PE/NEPA work itself. The Project Narrative should summarize the project's benefits, and should draw from the BCA, as necessary, for quantitative support.

Benefits may apply to existing and new rail users, as well as users of other modes of transportation. In some cases, benefits may be applied to populations in the general vicinity of the project area. Improvements to multimodal connections and shared-use rail corridors may benefit all users involved. Benefits may be quantified for savings in safety costs, reduced costs from disruption of service, maintenance costs, reduced travel time, emissions reductions, and increases in capacity or ability to offer new types of freight or passenger services. Applicants may also describe other categories of benefits that are difficult to quantify such as noise reduction, environmental impact mitigation, improved quality of life, or reliability of travel times. All benefits claimed for the project must be clearly tied to the expected outcomes of the project. Please refer to the Benefit-Cost Analysis Guidance for Discretionary Grant Programs prior to preparing a BCA, available at: https://www.transportation.gov/office-policy/transportation-policy/benefit-cost-analysis-guidance. In addition, please also refer to FRA's BCA FAQs for some rail-specific examples of how to apply the BCA Guidance for Discretionary Grant Programs to CRISI funding found here: https://railroads.dot.gov/sites/fra.dot.gov/files/fra_net/19011/BCA_FAQ_updated_Sept2019.pdf.

iii. Environmental compliance documentation, as applicable, if a website link to such documentation is not provided in the Project Narrative.

Applicants should explain what Federal (and, if appropriate, State, Tribal, and local) environmental compliance and permitting requirements have been completed. Such requirements include NEPA and other Federal, Tribal, local, and State environmental permitting requirements, if applicable. For all other Federal, State, Tribal, and local permitting requirements, the applicant should describe which permits apply, the status of those reviews, and the expected timeline for completion. If the NEPA process is complete, an applicant should indicate the date of completion, and provide a website link or other reference to the documents demonstrating compliance with NEPA, which might include a final Categorical Exclusion determination documentation, Finding of No Significant Impact, or Record of Decision. If the NEPA process is not yet underway, the application should state this. If the NEPA process is underway, but not complete, the application should detail the type of NEPA review underway, where the project is in the process, and indicate the anticipated date of completion of all NEPA and other environmental requirements. Additional information regarding FRA's environmental processes and requirements is located at https://fra.dot.gov/environment.

iv. Draft or finalized agreement required under 49 U.S.C. 22905(c)(1), if applicable. Provide information about the status of agreements with infrastructure owners. FRA encourages early cooperation between applicants and any relevant infrastructure owners. Under section 22905(c)(1), a grant applicant must have entered into a written agreement with a railroad that owns rights-of-way to be used by the project (referred to as the 22905 Agreement) prior to grant obligation. If the agreement is complete at the time of the application, an applicant should indicate the agreement's effective date, and provide a website link or attach the agreement as part of the application. Applicants are also encouraged to provide draft agreements. The written agreement between the grantee and the railroad should describe use and ownership, including any compensation for such use; assurances regarding the adequacy of infrastructure capacity to accommodate both existing and future freight and passenger operations; an assurance by the railroad that collective bargaining agreements with the railroad's employees including terms regulating the contracting of work will remain in full force and effect according to their terms for work performed by the railroad on the railroad transportation corridor; and an assurance that the grantee complies with liability requirements consistent with 49 U.S.C. 28103. For additional guidance see the FRA Answers to Frequently Asked Questions about Rail Improvement Grant Conditions under 49 U.S.C. 22905(c)(1): https://railroads.dot.gov/elibrary/frequently-asked-questions-about-rail-improvement-grant-conditions-under-49-usc-ss-22905c1.

v. SF 424—Application for Federal Assistance.

vi. SF 424A—Budget Information for Non-Construction or SF 424C—Budget Information for Construction.

vii. SF 424B—Assurances for Non-Construction or SF 424D—Assurances for Construction.

viii. FRA F30—Certification Regarding Debarment, Suspension and Other Responsibility Matters, Drug-Free Workplace Requirements and Lobbying, located at https://railroads.dot.gov/elibrary/fra-f-30-certifications-regarding-debarment-suspension-and-other-responsibility-matters.

ix. FRA F 251—Applicant Financial Capability Questionnaire, located at https://railroads.dot.gov/elibrary/fra-f-251.

x. SF LLL—Disclosure of Lobbying Activities.

c. Post-Selection Requirements

See section F(2) of this notice for post-selection requirements.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date.

FRA may not make a grant award to an applicant until the applicant has complied with all applicable SAM requirements, and if an applicant has not fully complied with the requirements by the time the Federal awarding agency is ready to make a Federal award, the Federal awarding agency may determine that the applicant is not qualified to receive a Federal award and use that determination as a basis for making a Federal award to another applicant. Late applications, including those that are the result of a failure to register or comply with Grants.gov applicant requirements in a timely manner, will not be considered. If an applicant has not fully complied with the requirements by the submission deadline, the application will not be considered. To submit an application through Grants.gov, applicants must follow the directions below in subsection D.

a. Register With the SAM at www.SAM.gov

All applicants for Federal financial assistance must maintain current registrations in the SAM database. An applicant must be registered in SAM to successfully register in Grants.gov. The SAM database is the repository for standard information about Federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest-level owner and subsidiaries, as well as on all predecessors that have been awarded a Federal contract or grant within the last three years, if applicable. Information about SAM registration procedures is available at www.SAM.gov.

b. Obtain a Unique Entity Identifier

On April 4, 2022, the Federal government discontinued using DUNS numbers. The DUNS Number was replaced by a new, non-proprietary identifier that is provided by the System for Award Management (www.SAM.gov). This new identifier is called the Unique Entity Identifier (UEI), or the Entity ID. To find or request a Unique Entity Identifier, please visit www.SAM.gov.

c. Create a Grants.gov Username and Password

Applicants must complete an Authorized Organization Representative (AOR) profile on www.Grants.gov and create a username and password. Applicants must use the organization's UEI to complete this step. Additional information about the registration process is available at: https://www.grants.gov/applicants/applicant-registration.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant has trouble at any point during this process, please call the Grants.gov Customer Center Hotline at 1-800-518-4726, 24 hours a day, 7 days a week (closed on Federal holidays). For information and instructions on each of these processes, please see instructions at: https://www.grants.gov/support.

4. Submission Dates and Times

Applicants must submit complete applications to www.Grants.gov no later than 11:59 p.m. ET, May 28, 2024. Applicants will receive a system-generated acknowledgement of receipt. FRA reviews www.Grants.gov information on dates/times of applications submitted to determine timeliness of submissions. Late applications will be neither reviewed nor considered, no exceptions. To apply for funding under this announcement, all applicants are required to be registered as an organization with Grants.gov. Applicants are strongly encouraged to apply early to ensure all materials are received before this deadline.

To ensure fair competition for limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their state's process under Executive Order 12372.

6. Funding Restrictions

Consistent with 2 CFR 200.458, as applicable, FRA will only approve pre-award costs if such costs are incurred pursuant to the negotiation and in anticipation of the grant agreement and if such costs are necessary for efficient and timely performance of the scope of work.³³ Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

³³ For more information on pre-award costs, see FRA Answers to Frequently Asked Questions about Pre-Award Authority, available at: https://railroads.dot.gov/elibrary/federal-railroad-administration-answers-frequently-asked-questions-about-pre-award.

Applicants may count costs incurred for Preliminary Engineering costs on highway-rail grade crossing projects, as described in 49 U.S.C. 22907(c)(5), and trespassing prevention projects, as described in 49 U.S.C. 22907(c)(11), as part of the total project costs. Such costs are eligible as non-Federal share or reimbursement, even if they were incurred before project selection for award, consistent with 49 U.S.C. 22907(h)(4). Such costs must have been incurred no earlier than November 15, 2021, and must be otherwise compliant with 2 CFR part 200 and the requirements of this NOFO.

7. Other Submission Requirements

Please use generally accepted formats such as .pdf, .doc, .docx, .xls, .xlsx and .ppt, when uploading attachments. While applicants may embed picture files, such as .jpg, .gif, and .bmp in document files, applicants should not submit attachments in these formats. Additionally, the following formats will not be accepted: .com, .bat, .exe, .vbs, .cfg, .dat, .db, .dbf, .dll, .ini, .log, .ora, .sys, and .zip.

E. Application Review Information

1. Criteria

a. Eligibility and Completeness

FRA will first screen each application for applicant and project eligibility (eligibility requirements are outlined in section C of this NOFO), completeness (application documentation and submission requirements are outlined in section D of this NOFO), and the 20 percent minimum non-Federal match.

b. Evaluation Criteria

FRA will evaluate all eligible and complete applications using the evaluation criteria outlined in this section to determine project readiness, technical merit, and project benefits.

i. Project Readiness:

In evaluating Project Readiness, FRA will evaluate project and applicant risk based on the applicant's preparedness and capacity to implement the proposed project, including whether the applicant is reasonably equipped to begin the capital or planning project in a timely manner to meet its proposed schedule. FRA will evaluate whether the applicant is able to meet project milestones and use Federal funds efficiently to deliver the proposed project.³⁴

³⁴ Additional information on DOT's Project Readiness checklist can be found here: https://www.transportation.gov/grants/dot-navigator/project-readiness-checklist-dot-discretionary-grant-applicants.

FRA will evaluate the application for the degree to which—

(A) The application demonstrates strong project readiness, evidenced by status of required NEPA actions and environmental permitting readiness (if applicable);

(B) The status and timeline of agreements, such as an agreement required under 49 U.S.C. 22905(c)(1), necessary for the legal, financial, and technical capacity to complete the project as proposed, are sufficiently developed;

(C) The application identifies the appropriate Lifecycle Stage(s) for the proposed project, demonstrates that the project has completed or will complete any preceding Lifecycle Stage(s), and the project is able to complete all requirements of the identified Lifecycle Stage(s); and

(D) Project partner coordination and commitments, including letters of support, agreements, and funding, are secured or able to be secured without undue delay.

ii. Technical Merit:

In evaluating Technical Merit, FRA will evaluate the degree to which the application, statement of work, schedule and budget are reasonable and appropriate to achieve the expected outcomes, commitment of necessary resources and workforce to deliver the project, and the proposed project elements are appropriate for the project funding request. FRA will also consider applicant risk, including the applicant's past performance in developing and delivering similar projects.

FRA will evaluate application information for the degree to which—

(A) The tasks and subtasks outlined in the statement of work (SOW) are appropriate to achieve the expected outcomes of the proposed project;

(B) The technical qualifications and experience of key personnel the applicant proposes to lead and perform the technical efforts, including the qualifications of the primary and supporting organizations, demonstrates the ability to fully and successfully execute the proposed project within the proposed time frame and budget;

(C) The proposed project's business plan considers potential private sector participation in the financing, construction, or operation of the proposed project.

(D) The applicant has, or will have, the legal, financial, and technical capacity to carry out the proposed project; satisfactory continuing control over the use of the equipment or facilities; and the capability and willingness to maintain the equipment or facilities.

(E) The degree to which the applicant and project deploy innovative technology, encourage innovative approaches to project delivery, and incentivize the use of innovative financing.

(F) The proposed project is consistent with planning guidance and documents set forth by DOT, including those required by law or State rail plans developed under title 49, United State Code, chapter 227.

For projects identified as Deployment of Magnetic Levitation Transportation Projects (Track 5), FRA will also evaluate application information for the degree to which—

(A) The project would feasibly integrate Maglev systems with conventional rail systems, such as establishing efficient connections and transfers.

(B) The funds awarded under this section would result in investments that are beneficial not only to the Maglev project, but also to other current or near-term transportation projects.

(C) The project demonstrates: (a) The potential for public-private partnerships and (b) that the project will stand alone as a complete, self-sustaining operation where fully allocated operating expenses of the Maglev service are projected to be offset by revenues attributable to the service.

(D) The financial commitment to the construction of the proposed project from both non-Federal public and private sources is demonstrated.

(E) The project demonstrates coordination and consistency with any applicable ongoing or completed environmental and planning studies for passenger rail on or connecting to the geographic route segment being proposed for Maglev investment.

(F) The project will successfully operate in the variety of Maglev operating conditions which are to be expected in the United States.

(G) The project may feasibly be capable of safe use by the public at a speed in excess of 240 miles per hour.

iii. Project Benefits:

FRA will evaluate the Benefit-Cost Analysis and as well as the project benefits of the proposed project for the anticipated private and public benefits relative to the costs of the proposed project and the summary of benefits provided in the narrative and in response to subsection D.2.b.ii including—

(A) Effects on system and service performance;

(B) Effects on safety, competitiveness, reliability, trip or transit time, and resilience;

(C) Efficiencies from improved integration with other modes; and

(D) Ability to meet existing or anticipated demand.

For each evaluation criterion—Project Readiness, Technical Merit and Project Benefits—FRA will evaluate whether the application demonstrates level of risk or responsiveness, as applicable, as described in the rubrics below.

For each merit criterion, FRA will use rubric ratings with applied criteria to evaluate whether the applications meet the defined thresholds:

Merit Criteria Ratings—Project Readiness
For the Project Readiness Criteria described in section E(2)(a), FRA will evaluate the application's responsiveness to the criteria, including an assessment of supporting justifications, and assign a cumulative Project Readiness risk rating.
Unacceptable | High risk | Medium risk | Low risk
Application provides limited or no information necessary to assess the project readiness criteria; application does not demonstrate support, progress, or completion of required Lifecycle Stage(s) pre-requisites; or application contains one or more significant barriers that would prevent project delivery. | Application provides insufficient information to assess the project readiness criteria; application does not demonstrate sufficient support, progress, or completion of required Lifecycle Stage(s) pre-requisites but indicates risk to advancing the project without foreseeable delays; or application contains a barrier that would likely prevent project delivery in any of these areas. | Application provides sufficient information to assess the project readiness criteria; demonstrates support, progress, or completion on one or more required Lifecycle Stage(s) pre-requisites, but indicates some risk to advancing the project in a timely manner; and the application does not contain a barrier that would likely prevent project delivery in any of these areas. | Application provides thorough and complete information and evidence to assess the project readiness criteria, and demonstrates strong support, progress, or completion on required Lifecycle Stage(s) pre-requisites, and indicates minimal risk to advancing the project in a timely manner; and application does not contain a barrier that would likely prevent project delivery in any of these areas.

Merit Criteria Ratings—Technical Merit
For the Technical Merit Criteria described in section E(2)(b), FRA will evaluate the application's responsiveness to the criteria, including an assessment of supporting justifications, and assign a cumulative technical merit rating.
Unacceptable | Acceptable | Responsive | Highly responsive
Application provides limited or no information necessary to assess the technical merit criteria, or application demonstrates one or more significant technical challenges that would prevent the applicant from delivering the project. | Application contains insufficient information to assess one or more of the technical merit criteria, or application demonstrates technical challenges that could affect project delivery, but not prevent the applicant from delivering the project. | Application provides sufficient information and evidence to assess the technical merit criteria and demonstrates that the applicant can deliver the project with minimal technical challenges. | Application provides thorough and complete information and evidence to assess the technical merit criteria, and sufficiently demonstrates that the project can be successfully delivered by the applicant.

Merit Criteria Ratings—Technical Merit (Only Applicable to Applications That Request Funding Under the Maglev Grants Program)
For projects identified as Deployment of Magnetic Levitation Transportation Projects in section E(2)(b), FRA will also evaluate the application's responsiveness to the criteria, including an assessment of supporting justifications, and assign a cumulative technical merit rating.
Unacceptable | Acceptable | Responsive | Highly responsive
The application provides little or no information necessary to assess the technical merit criteria, or application demonstrates one or more significant technical challenges that would prevent the applicant from delivering the project. | Application contains insufficient information to assess one or more of the technical merit criteria, or application demonstrates technical challenges that could affect project delivery, but not prevent the applicant from delivering the project. | Application provides sufficient information and evidence to assess the technical merit criteria and demonstrates that the applicant can deliver the project with minimal technical challenges. | Application provides thorough and complete information and evidence to assess the technical merit criteria, and sufficiently demonstrates that the project can be successfully delivered by the applicant.

Merit Criteria Ratings—Project Benefits
For the Project Benefits Criteria described in section E(2)(c), FRA will evaluate the application's responsiveness to the criteria, including an assessment of supporting justifications, and assign a cumulative Project Benefits rating.
Unacceptable | Acceptable | Responsive | Highly responsive
Application provides insufficient information necessary to assess the project benefits criteria, and does not demonstrate that the project will achieve its intended benefits. | The application contains limited information to assess the project benefits criteria; or the project is not likely to achieve all of its intended benefits. | Application provides sufficient information to assess the project benefits criteria, and adequately demonstrates that the project will likely achieve its intended benefits. | Application provides thorough and complete information and evidence to assess the project benefits criteria, and sufficiently demonstrates that the project will achieve its intended benefits.

In addition to the ratings described above, FRA will also apply the selection preferences described in section E(3)(a) and consider the Administration Priorities described in section E(3)(b).

c. Selection Criteria

After completing the merit review, FRA will apply the selection criteria and consider the Administration Priorities in this section.

i. FRA will give preference to eligible projects in the following circumstances:

(A). The project may not be addressed by other FRA grant programs including short line railroad infrastructure and equipment, safety projects and technology, workforce development, congestion relief projects addressing freight and passenger rail chokepoints, and intercity passenger rail state of good repair (on shared public-private and publicly owned infrastructure);

(B) The proposed Federal share of total project costs does not exceed 50 percent; ³⁵

³⁵ This preference applies to funds made available by IIJA, division J. However, 49 U.S.C. 22907(e)(1)(A) does not apply to projects funded by the 2023 Appropriation. Because the preference still applies to the IIJA funding, FRA encourages applicants to identify sufficient non-Federal contribution so that the Federal share does not exceed 50 percent.

(C) The net benefits of the grant funds will be maximized considering the Benefit-Cost Analysis, including anticipated private and public benefits relative to the costs of the proposed project, and factoring in the other considerations in 49 U.S.C. 22907(e)(2); ³⁶ and

³⁶ These benefits may include the effects on system and service performance, including measures such as improved safety, competitiveness, reliability, trip or transit time, resilience, efficiencies from improved integration with other modes, the ability to meet existing or anticipated demand, and any other benefits.

(D) The project is eligible under 49 U.S.C. 22907(c)(11), for the development and implementation of measures to prevent trespassing and reduce associated injuries and fatalities that are located in the top 25 counties with the most pedestrian casualties.³⁷ In addition, FRA is strongly interested in applications that incorporate a comprehensive approach to project development such as is described in FRA's Community Trespass Prevention Program, and will prioritize selections for those applications that involve multiple project partners and include infrastructure improvements in combination with a safety program focused on enforcement and outreach.

³⁷ FRA has identified these 25 counties through https://railroads.dot.gov/safety-data, and includes the following: California (Los Angeles, San Bernardino, Kern, San Joaquin, Alameda, Contra Costa, Fresno, Riverside, Sacramento, Santa Clara, Orange, Stanislaus, San Diego); Florida (Palm Beach, Broward); Illinois (Cook); Nevada (Clark); Oregon (Multnomah); Pennsylvania (Philadelphia); Tennessee (Davidson); Texas (Tarrant, Dallas, Bexar, Harris); and Washington (King).

ii. Administration Priorities:

FRA will consider projects that address the following key Administration Priorities:

Safety: FRA will assess the project's ability to foster a safe transportation system for the movement of goods and people, consistent with the Department's strategic goal to reduce transportation-related fatalities and serious injuries across the transportation system. Such considerations will include, but are not limited to, the extent to which the project improves and upgrades infrastructure to achieve a higher level of safety, reduces incidences of rail-related trespassing, upgrades infrastructure to achieve a higher level of safety, and uses an appropriately trained workforce. Overall, FRA expects that projects will provide positive safety benefits for all users and not negatively impact safety for all users.

Climate Change and Sustainability: FRA will assess the project's ability to reduce the harmful effects of climate change and anticipate necessary improvements to prepare for extreme weather events. Such considerations may include, but are not limited to, the extent to which the project reduces emissions, promotes energy efficiency, increases resiliency, incorporates evidence-based climate resilience measures or features, and avoids adverse environmental impacts to air or water quality, wetlands, and endangered species. Projects that lead to a significant reduction of emissions resulting from rehabilitating, remanufacturing, procuring, and overhauling a locomotive meet the objective of this priority.

Applicants are encouraged to use the DOT Navigator Climate checklist in responding to this criterion. Applications that are rated highly on this criterion will be those that use data-driven and evidence-based methods to demonstrate that the project will:

• Significantly reduce GHG emissions in the transportation sector; and

• Incorporate evidence-based climate resilience measures or features.

Equity and Justice40: FRA will assess elements including how the project will create positive outcomes that will reduce, mitigate, or reverse how a community is experiencing disadvantage through increasing affordable transportation options, improving health or safety, reducing pollution, connecting Americans to good-paying jobs, fighting climate change, and/or improving access to nature, resources, transportation or mobility, and quality of life. FRA will consider the benefits and potential burdens a project may create, who would experience them and how the benefits and potential burdens will impact disadvantaged communities.

Applicants are encouraged to use Climate & Economic Justice Screening Tool (CEJST), a new tool by the White House Council on Environmental Quality (CEQ), that aims to help Federal agencies identify disadvantaged communities as part of the Justice40 initiative to accomplish the goal that 40% of benefits from certain federal investment reach disadvantaged communities. Applicants should use CEJST as the primary tool to identify disadvantaged communities (Justice40 communities). Applicants are strongly encouraged to use the USDOT Equitable Transportation Community (ETC) Explorer to understand how their community or project area is experiencing disadvantage related to lack of transportation investments or opportunities. Through understanding how a community or project area is experiencing transportation-related disadvantage, applicants are able to address how the benefits of a project will reverse or mitigate the burdens of disadvantage and demonstrate how the project will address challenges and accrued benefits.

Applicants are strongly encouraged to use the FRA's Justice40 Rail Explorer Tool, (https://usdot.maps.arcgis.com/apps/webappviewer/index.html?id=fd9810f673b64d228ae072bead46f703) to identify the rail infrastructure in their project and features of the surrounding community as the basis of their assessment. The FRA Justice40 Rail Explorer Tool is a rail-specific complement to the USDOT ETC Explorer and leverages the same methodology and metrics. The FRA Justice40 Rail Explorer Tool provides GIS information on existing rail infrastructure, communities, and pollution levels based on the proposed project's location, and applicants can thus use this tool to note how their project location scores across several different measures. Transportation disadvantaged communities experience burden, as a result of underinvestment in transportation, in the following five components: Transportation Insecurity, Climate and Disaster Risk Burden, Environmental Burden, Health Vulnerability, and Social Vulnerability.

Workforce Development, Job Quality, and Wealth Creation: FRA will assess how the project will create good-paying, safe jobs with free and fair choice to join a union including through the use of a project labor agreement, promote investments in high-quality workforce development programs, adopt local and economic hiring preferences for the project workforce, and promote local inclusive economic and entrepreneurship programs.

For Administration Priorities, FRA will consider the application's responsiveness to the criteria, and will result in a rating of “Non-responsive, “Acceptable,” “Responsive,” or “Highly Responsive” as described in the rubric below. Applicants do not need to respond to all of the Administration Priorities if the criterion is not applicable to the proposed project.

Administration Priorities
For the Administration Priorities Criteria described in section E(3)(b), FRA will consider the application's responsiveness to the criteria, including an assessment of supporting justifications.
Non-responsive | Acceptable | Responsive | Highly responsive
Application contains insufficient information to assess any of the Administration Priorities, or project is inconsistent with one or more of the Administration Priorities. | Application contains limited information that is supported by some evidence, but primarily described qualitatively, that the project is consistent with at least one of the Administration Priorities. | Application contains sufficient information that is adequately supported by both quantitative and qualitative evidence that the project has clear and direct benefits in at least one of the Administration Priorities. | Application contains thorough and complete information that is strongly supported by both quantitative and qualitative evidence that the project has clear, direct, and significant benefits in one or more of the Administration Priorities, and is not inconsistent with any of the Administration Priorities.

Upon completion of all reviews, FRA will finalize an Overall Rating for each application. This rating will be a combination of the results of the three Merit Criteria reviews, specifically Project Readiness, Project Benefits, and Technical Merit criteria ratings as described in sections E(2)(a)-E(2)(c); the benefit-cost analysis as identified in section E(2)(c) and further described in section D(2)(b)(ii); and the Administration Priorities as described in section E(3)(b). Provided in the Overall Rating Rubric below, each rating has defined parameters to which each application will be assessed.

Overall Rating
Not recommended | Acceptable | Recommended | Highly recommended
The application received an overall score of not recommended based on Project Readiness, Technical Merit, and Project Benefits ratings, confidence in the application's BCA, and consideration of Administration Priorities. | The application received an overall score of acceptable based on Project Readiness, Technical Merit, and Project Benefits ratings, confidence in the benefit-cost analysis, and consideration of Administration Priorities. | The application received an overall score of recommended based on Project Readiness, Technical Merit, and Project Benefits ratings, confidence in the benefit-cost analysis, and has clear and direct benefits in one of the Administration Priorities. | The application received an overall score of highly recommended based on Project Readiness, Technical Merit, and Project Benefits ratings, confidence in the benefit-cost analysis, and has clear, direct, and significant benefits in one or more of the Administration Priorities.

The evaluation process may draw upon subject matter experts within FRA Division offices whose expertise is relevant to understanding the application's responsiveness to the program criteria, such as assessing the applicant's capacity to successfully deliver the project in compliance with applicable Federal requirements based on factors including, but not limited to, the recipient's experience working with Federal agencies, previous experience with DOT discretionary grant awards and/or the technical experience and resources dedicated to the project. Finally, in determining the allocation of program funds, FRA may also consider geographic diversity, diversity in the size of the systems receiving funding, and the applicant's receipt of other competitive awards.

2. Review and Selection Process

FRA will conduct a five-part application review process, as follows:

• Intake and Eligibility Phase: Screen applications for applicant and project eligibility, completeness, and the minimum match (completed by the Evaluation Management and Oversight Team, or “EMOT,” comprised of FRA program review directors who manage the pre-award process);

• Evaluation Review Phase: Evaluate remaining applications against the statutory technical merit criteria, project benefit criteria, project readiness and the applicant's ability (based on past performance and relevant project factors) to develop and deliver similar projects, and alignment with Administration Priorities (completed by technical merit review panels consisting of FRA and Department of Transportation (DOT) staff). The EMOT will compile the results of the Evaluation Review Phase consistent with the CRISI Program set-asides and selection preferences. After considering all FRA reviews under the statutory criteria, applications will be assigned an overall rating of “Highly Recommended,” “Recommended,” “Acceptable,” or “Not Recommended”;

• Steering Committee Phase: The Steering Committee is comprised of Senior Directors with the Office of Railroad Development, which may also include senior leadership from the Railroad Office of Safety and other relevant offices. The EMOT briefs the Steering Committee on all rated applications, and the Steering Committee may request more information from FRA offices whose expertise may be relevant. The Steering Committee provides strategic direction, in line with program goals outlined in this NOFO, on the development of materials and approach for the Senior Review Team (SRT) briefing;

• Senior Review Phase: The SRT will review, apply selection criteria, and recommend initial selection of projects for the FRA Administrator's review (completed by the SRT, which may include senior leadership from the Office of the Secretary and FRA); and

• Selection and Award Phase: Select recommended awards for the Secretary's or his designee's review and approval (completed by the FRA Administrator).

3. Reporting Matters Related to Integrity and Performance

Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a federal awarding agency previously entered and is currently in the designated integrity and performance system accessible through SAM.

FRA will consider any comments by the applicant, in addition to the other information, in making a judgment about the applicant's integrity, business ethics, and record of performance under Federal awards when completing the review of risk posed by applicants as described in 2 CFR 200.205.

F. Federal Award Administration Information ³⁸

³⁸ More information on FRA Discretionary Grant Agreements can be found at: https://railroads.dot.gov/grants-loans/fra-discretionary-grant-agreements.

1. Federal Award Notices

FRA will announce applications selected for funding in a press release and on FRA's website after the application review period. This announcement is FRA's notification to successful and unsuccessful applicants alike. Following this announcement, FRA will contact the point of contact listed in the SF 424 to initiate negotiation of a project-specific grant agreement. This notification is not an authorization to begin proposed project activities. FRA requires satisfaction of applicable requirements by the applicant and a formal agreement signed by both the grantee and the FRA, including an approved scope, schedule, and budget, before obligating the grant.

2. Administrative and National Policy Requirements

In connection with any program or activity conducted with or benefiting from funds awarded under this notice, grantees of funds must comply with all applicable requirements of Federal law, including, without limitation, the Constitution of the United States; the relevant authorization and appropriations, the conditions of performance, nondiscrimination requirements, and other assurances made applicable to the award of funds in accordance with regulations of DOT; and applicable Federal financial assistance and contracting principles promulgated by the Office of Management and Budget. In complying with these requirements, grantees, in particular, must ensure that no concession agreements are denied, or other contracting decisions made on the basis of speech or other activities protected by the First Amendment. If DOT determines that a grantee has failed to comply with applicable Federal requirements, DOT may terminate the award of funds and disallow previously incurred costs, requiring the grantee to reimburse any expended award funds. The new FRA grant agreement consists of three parts: Attachment 1: Standard Terms and Conditions, Attachment 2: Project-Specific Terms and Conditions, and Terms and Conditions Exhibits.

Examples of administrative and national policy requirements include: 2 CFR part 200; procurement standards at 2 CFR part 200, subpart D—Procurement Standards; 2 CFR 1207.317 and 2 CFR 200.401; compliance with Federal civil rights laws and regulations; disadvantaged business enterprises requirements; debarment and suspension requirements; drug-free workplace requirements; FRA's and OMB's Assurances and Certifications; Americans with Disabilities Act; safety requirements; NEPA; and environmental justice; compliance with 49 U.S.C. 24905(c)(2) for the duration of NEC Projects; and 2 CFR 200.315, governing rights to intangible property. Projects assisted with funds provided through the Maglev Grants Program are subject to 49 U.S.C. 5333(a). Unless otherwise stated in statutory or legislative authority, or appropriations language, all financial assistance awards follow the Uniform Administrative Requirements, Cost Principles and Audit Requirements for Federal Awards at 2 CFR part 200 and 2 CFR part 1201.

Assistance under this NOFO is subject to the grant conditions in 49 U.S.C. 22905, including labor protective arrangements that are equivalent to the protective arrangements established under section 504 of the Railroad Revitalization and Regulatory Reform Act of 1976 (45 U.S.C. 836) with respect to employees affected by actions taken in connection with the project to be financed in whole or in part by grants subject to 49 U.S.C. 22905, the provision deeming operators rail carriers and employers for certain purposes, and grantee agreements with railroad right-of-way owners for projects using railroad rights-of-way (see section D(2)(a)(viii)(A)(5)).³⁹

³⁹ More information on labor protections can be found here: https://railroads.dot.gov/elibrary/equivalent-labor-protections.

Projects selected under this NOFO for commuter rail passenger transportation for positive train control projects may be transferred to the Federal Transit Administration for grant administration at the Secretary's discretion. If such a project is transferred to the Federal Transit Administration, applicants will be required to comply with chapter 53 of title 49 of the United States Code.

Projects that have not sufficiently considered climate change environmental justice in their planning, as determined by FRA, will be required to do so before receiving funds for construction, consistent with core policy goals of assessing these potential impacts. For example, see Executive Order 14008, Tackling the Climate Crisis at Home and Abroad (86 FR 7619) and Executive Order 14096, Revitalizing Our Nation's Commitment to Environmental Justice. In the grant agreement, recipients will be expected to describe activities they have taken or will take prior to obligation of construction funds to address climate change and environmental justice (EJ). (See Article 9 of FRA's Attachment 2: Project-Specific Terms and Conditions for a list of project activities that address climate change and environmental justice priorities, available at: https://railroads.dot.gov/sites/fra.dot.gov/files/2024-02/Attachment_2_Project_Specific_Terms_12.11.23_PDFa.pdf). Activities that address climate change include, but are not limited to, demonstrating the project will result in significant greenhouse gas emissions reductions; the project supports emissions reductions goals in a Local/Regional/State plan; the project improves disaster preparedness and resilience; the project incorporates resilience in its design, and the project primarily focuses on funding for state of good repair and clean transportation options, including public transportation, walking, biking, and micro-mobility. Activities that address environmental justice may include, but are not limited to: basing project design on consideration of community impacts; information gained from screening tools such as CEJST, EPA's EJ Screen, or another appropriate environmental and community impacts tools developed by a State agency; connecting transportation disadvantaged communities or other communities with environmental justice concerns based on information gained from the screening tools noted above or FRA's Justice40 Rail Explorer Tool; conducting enhanced, targeted outreach to potentially affected communities, including disadvantaged communities; considering environmental justice in alternatives analysis and final project design; and supporting a modal shift in freight or passenger movement to reduce emissions or reduce induced travel demand.

Projects must consider and address equity and barriers to opportunity in their planning, as determined by FRA, and as a condition of receiving construction funds, consistent with Executive Order 13985, Advancing Racial Equity and Support for Underserved Communities Through the Federal Government (86 FR 7009). The grant agreement should include the grantee's description of activities it has taken or will take prior to obligation of construction funds that addresses equity and barriers to opportunity. These activities may include, but are not limited to: completing an equity impact analysis for the project; completing a community needs assessment; adopting an equity and inclusion program/plan; conducting meaningful public engagement to ensure underserved communities are provided an opportunity to be involved in the planning process and is conducted in a manner that is consistent with Title VI of the Civil Rights Act (Title VI); including investments that either redress past barriers to opportunity or that proactively create new connections and opportunities for underserved communities; hiring from local communities; improving access to or providing economic growth and wealth building opportunities for underserved, overburdened, or rural communities; or addressing historic or current inequitable air pollution or other environmental, health, or economic burdens and impacts. (See Article 10 of FRA's Attachment 2: Project-Specific Terms and Conditions for a list of project activities that address efforts to improve racial equity and reduce barriers to opportunity, available at: https://railroads.dot.gov/sites/fra.dot.gov/files/2024-02/Attachment_2_Project_Specific_Terms_12.11.23_PDFa.pdf). While not a selection criterion to the extent the project includes or is part of a station area, the Department encourages project sponsors to consider how the submitted project could develop or facilitate economic development, including commercial and residential development that enhance the economic vitality and competitiveness of the surrounding neighborhood and region.

To the extent that applicants have not sufficiently considered job quality and labor rights in their planning, as determined by the Department of Labor, the applicants will be required to do so before receiving funds for construction, consistent with Executive Order 14025, Worker Organizing and Empowerment (86 FR 22829), and Executive Order 14052, Implementation of the Infrastructure Investment and Jobs Act (86 FR 64335). Specifically, the project planning activities and project delivery actions must support: (a) strong labor standards and the free and fair choice to join a union, including project labor agreements, local hire agreements, distribution of workplace rights notices, and use of an appropriately trained workforce; (b) support of high-quality workforce development programs, including registered apprenticeship, labor-management training programs, and supportive services to help train, place, and retain people in good-paying jobs and apprenticeships; and (c) comprehensive planning and policies to promote hiring and inclusion for all groups of workers, including through the use of local and economic hiring preferences, linkage agreements with workforce programs that serve underrepresented groups, and proactive plans to prevent harassment. (See Article 11 of FRA's Attachment 2: Project-Specific Terms and Conditions for a list of project activities that address efforts to support good-paying jobs and strong labor standards, available at: https://railroads.dot.gov/sites/fra.dot.gov/files/2024-02/Attachment_2_Project_Specific_Terms_12.11.23_PDFa.pdf.

a. Federal Contract Compliance

As a condition of grant award and consistent with Executive Order 11246, Equal Employment Opportunity (30 FR 12319, and as amended), all Federally assisted contractors are required to make good faith efforts to meet the goals of 6.9 percent of construction project hours being performed by women, in addition to goals that vary based on geography for construction work hours and for work being performed by people of color. Under Section 503 of the Rehabilitation Act and its implementing regulations, affirmative action obligations for certain contractors include an aspirational employment goal of 7 percent workers with disabilities.

The U.S. Department of Labor's Office of Federal Contract Compliance Programs (OFCCP) is charged with enforcing Executive Order 11246, Section 503 of the Rehabilitation Act of 1973, and the Vietnam Era Veterans' Readjustment Assistance Act of 1974. OFCCP has a Mega Construction Project Program through which it engages with project sponsors as early as the design phase to help promote compliance with non-discrimination and affirmative action obligations. OFCCP will identify projects that receive an award under this notice and are required to participate in OFCCP's Mega Construction Project Program from a wide range of Federally-assisted projects over which OFCCP has jurisdiction and that have a project cost above $35 million. DOT will require project sponsors with costs above $35 million that receive awards under this funding opportunity to partner with OFCCP, if selected by OFCCP, as a condition of their DOT award.

b. Critical Infrastructure Security, Cybersecurity and Resilience

It is the policy of the United States to strengthen the security and resilience of its critical infrastructure against all hazards, including physical and cyber risks, consistent with Presidential Policy Directive 21—Critical Infrastructure Security and Resilience, and the National Security Memorandum (NSM-5) on Improving Cybersecurity for Critical Infrastructure Control Systems. Each applicant selected for Federal funding must demonstrate, prior to signing of the grant agreement, efforts to consider and address physical and cyber security risks relevant to the transportation mode and type and scale of the project. Projects that have not appropriately considered and addressed physical and cyber security and resilience in their planning, design, and project oversight, as determined by the Department and the Department of Homeland Security, will be required to do so before receiving funds.

c. Domestic Preference Requirements

As expressed in Executive Order 14005, Ensuring the Future Is Made in All of America by All of America's Workers (86 FR 7475), the executive branch should maximize, consistent with law, the use of goods, products, and materials produced in, and services offered in, the United States. Funds made available under this notice are subject to the domestic preference requirement in 49 U.S.C. 22905(a) (FRA Buy America) and the Build America, Buy America Act, Public Law 117-58, 70901-52. The Department expects all applicants to comply with the applicable domestic preference requirements. However, Major Projects applicants should include a domestic sourcing plan that provides details on the extent to which the materials covered by the plan are to be imported and the extent to which such materials can be sourced domestically.; and (2) Applicants should also provide an explanation in the plan of the number of domestic jobs, temporary and permanent, that will be generated by the project and outline a plan to transition any foreign labor responsibilities to domestic jobs. Major projects applicants may also request a waiver from certain Buy America requirements along with the domestic sourcing plan.

d. Civil Rights and Title VI

As a condition of a grant award, grant recipients should demonstrate that the recipient has a plan for compliance with civil rights obligations and nondiscrimination laws, including Title VI of the Civil Rights Act of 1964 and implementing regulations (49 CFR part 21), the Americans with Disabilities Act of 1990 (ADA), Section 504 of the Rehabilitation Act, all other civil rights requirements, and accompanying regulations. This may include a current Title VI plan, completed Community Participation Plan, and a plan to address any legacy infrastructure or facilities that are not compliant with ADA standards. DOT's and FRA's Offices of Civil Rights may work with awarded grant recipients to ensure full compliance with Federal civil rights requirements.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350. If the total value of a selected applicant's currently active grants, cooperative agreements, and procurement contracts from all Federal awarding agencies exceeds $10,000,000 for any period of time during the period of performance of this Federal award, then the applicant during that period of time must maintain the information reported to SAM and ensure that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

c. Performance and Program Evaluation

Recipients and subrecipients are also encouraged to incorporate program evaluation, including associated data collection activities from the outset of their program design and implementation, to meaningfully document and measure their progress towards meeting an agency priority goal(s). Title I of the Foundations for Evidence-Based Policymaking Act of 2018 (Evidence Act), Public Law 15-435 (2019) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation. (2 CFR part 200).

d. Performance Reporting

Each applicant selected for funding must collect information and report on the project's performance using measures mutually agreed upon by FRA and the grantee to assess progress in achieving strategic goals and objectives. Examples of some rail performance measures for CRISI funding are listed in the table below. The applicable measure(s) will depend upon the type of project. Applicants requesting funding for the acquisition of rolling stock must integrate at least one equipment/rolling stock performance measure, consistent with the application materials and program goals.

Rail measures | Unit measure | Measurement period | Measurement frequency | Primary administration priority | Secondary administration priority | Description
Slow Order Miles | Miles |  | Quarterly | Workforce Development, Job Quality, and Wealth Creation | Safety | The number of miles per quarter within the project area that have temporary speed restrictions (“slow orders”) imposed due to track condition. This is an indicator of the overall condition of track. This measure can be used for projects to rehabilitate sections of a rail line since the rehabilitation should eliminate, or at least reduce the slow orders upon project completion.
Gross Ton | Gross Tons |  | Quarterly | Workforce Development, Job Quality, and Wealth Creation |  | The annual gross tonnage of freight shipped in the project area. Gross tons include freight cargo minus tare weight of the rail cars. This measures the volume of freight a railroad ships in a year. This measure can be useful for projects that are anticipated to increase freight shipments.
Rail Track Grade Separation | Count |  | Quarterly | Workforce Development, Job Quality, and Wealth Creation | Safety | The number of automobile crossings that are eliminated at an at-grade crossing as a result of a new grade separation.
Equity in Contracting | Count of small businesses contracted | Duration of the Project Performance Period | Annual | Equity and Justice40 |  | Contracting with small and socially disadvantaged business enterprises, and labor surplus area firms (each a “Small Business”) for the Project.
Fuel Savings/Emissions | Gallons |  | Annual | Climate Change and Sustainability |  | The total gallons of fuel saved as a result of rehabilitating, remanufacturing, procuring, or overhauling locomotives.

e. Program Evaluation

As a condition of grant award, grantees may be required to participate in an evaluation undertaken by DOT, or another agency or partner. The evaluation may take different forms such as an implementation assessment across grant recipients, an impact and/or outcomes analysis of all or selected sites within or across grantee, or a benefit/cost analysis or assessment of return on investment. The Department may require applicants to collect data elements to aid the evaluation. As a part of the evaluation, as a condition of award, grantee must agree to: (1) make records available to the evaluation contractor; (2) provide access to program records, and any other relevant documents to calculate costs and benefits; (3) in the case of an impact analysis, facilitate the access to relevant information as requested; and (4) follow evaluation procedures as specified by the evaluation contractor or DOT staff. For grant recipients, evaluation expenses are allowable costs (either as direct or indirect), unless prohibited by statute or regulation, and such expenses may include the personnel and equipment needed for data infrastructure and expertise in data analysis, performance, and evaluation (2 CFR part 200).

f. Project Signage and Public Acknowledgements

As a condition of grant award, for construction and non-construction projects, recipients may be required to post project signage and to include public acknowledgments in published and other collateral materials (e.g., press releases, marketing materials, website, etc.) satisfactory in form and substance to DOT, that identifies the nature of the project and indicates that “the project is funded by the Bipartisan Infrastructure Law”. In addition, recipients employing project signage are required to use the official Investing in America emblem in accordance with the Official Investing in America Emblem Style Guide. Costs associated with signage and public acknowledgments must be reasonable and limited. Signs or public acknowledgments should not be produced, displayed, or published if doing so results in unreasonable cost, expense, or recipient burden. The Recipient is encouraged to use recycled or recovered materials when procuring signs.

G. Federal Awarding Agency Contacts

For further information concerning this notice, please contact the FRA NOFO Support program staff via email at FRA-NOFO-Support@dot.gov. If additional assistance is needed, you may contact Ms. Deborah Kobrin, Supervisory Transportation Specialist, at email: deborah.kobrin@dot.gov or telephone: 202-420-1281 in FRA's Office of Rail Program Development.

H. Other Information

All information submitted as part of or in support of any application shall use publicly available data or data that can be made public and methodologies that are accepted by industry practice and standards, to the extent possible. If the application includes information the applicant considers to be a trade secret or confidential commercial or financial information, the applicant should do the following: (1) note on the front cover that the submission “Contains Confidential Business Information (CBI)”; (2) mark each affected page “CBI”; and (3) highlight or otherwise denote the CBI portions.

The DOT regulations implementing the Freedom of Information Act (FOIA) are found at 49 CFR part 7, subpart C—Availability of Reasonably Described Records under the Freedom of Information Act which sets forth rules for FRA to make requested materials, information, and records publicly available under FOIA. Unless prohibited by law and to the extent permitted under the FOIA, contents of application and proposals submitted by successful applicants may be released in response to FOIA requests. The Department may share application information within the Department or with other Federal agencies if the Department determines that sharing is relevant to the respective program's objectives.

Issued in Washington, DC.
Jennifer Mitchell,
Deputy Administrator.

[FR Doc. 2024-06710 Filed 3-28-24; 8:45 am]

BILLING CODE 4910-06-P